OFFICE OF PERSONNEL MANAGEMENT

Excepted Service; Consolidated Listing of Schedules A, B, and C Exceptions

AGENCY: Office of Personnel Management.

ACTION: Notice.

SUMMARY: This gives a consolidated notice of all positions excepted under Schedules A, B, and C as of June 30, 2008, as required by Civil Service Rule VI, Exceptions from the Competitive Service.

FOR FURTHER INFORMATION CONTACT: Glenda Haendschke, Acting Group Manager, Executive Resources Services Group, (202) 606-2246.

SUPPLEMENTARY INFORMATION: Civil Service Rule VI (5 CFR 6.1) requires the U.S. Office of Personnel Management (OPM) to publish notice of all exceptions granted under Schedules A, B, and C. Title 5, Code of Federal Regulations, 213.103(c), further requires that a consolidated listing, current as of June 30 of each year, be published annually as a notice in the Federal Register. Agencies will notice the change in format of this notice from previous editions. The format has changed because it is not appropriate to set out what appears to be regulatory text in a notice document and therefore references to specific sections of the Code of Federal Regulations have been removed. The notice that follows is a summary of all Schedule A, B, and C excepted authorities. OPM maintains continuing information on the status of all Schedule A, B, and C excepted appointing authorities. Some of these exceptions are codified in the Code of Federal Regulations at 5 CFR, part 213, while others are not. We have identified those authorities below which are codified and those which are not. We remind agencies to consult the CFR before using these governmentwide authorities. Agencies are also reminded to consult your agency headquarters before using any agency-specific authority. Additionally, the authorities are subject to the provisions of 5 CFR, part 302 unless specifically exempted from those procedures. Interested parties needing information about specific authorities during the year may obtain information by writing to the Executive Resources Services Group, Center for Performance Management Systems and Evaluation, Human Capital Leadership and Merit System Accountability Division, Office of Personnel Management, 1900 E Street, NW., Room 7425, Washington, DC 20415, or by calling (202) 606-2246.

The following listing summarizes the Schedule A excepted authorities that are authorized for Governmentwide use. These authorities are codified at 5 CFR part 213. These excepted authorities are current as of June 30, 2008. Please consult the CFR to read the full authority.

Schedule A

The following are Schedule A authorities that are authorized for use by the entire Executive Civil Service:

1. Positions of Chaplain and Chaplain's Assistant.

2. Positions to which appointments are made by the President without confirmation by the Senate.

3. Attorneys.

4. Law clerk trainee positions.

5. Temporary and less-than-full-time positions for which examining is impracticable. These are: Positions in remote/isolated locations where examination is impracticable; positions for which a critical hiring need exists; and other positions that OPM may determine are impracticable to examine.

6. Positions filled by current or former Federal employees eligible for placement under special statutory provisions.

7. Positions without compensation, provided appointments thereto meet the requirements of applicable laws relating to compensation.

8. Positions requiring the temporary or intermittent employment of professional, scientific, and technical experts for consultation purposes.

9. Any local physician, surgeon, or dentist employed under contract or on a part-time or fee basis.

10. Positions of a scientific, professional or analytical nature when filled by bona fide members of the faculty of an accredited college or university who have special qualifications for the positions to which appointed.

11. Positions established in support of fellowship and similar programs that are filled from limited applicant pools and operate under specific criteria developed by the employing agency and/or a non-Federal organization.

12. Positions with compensation fixed under 5 U.S.C. 5351-5356 when filled by student-employees assigned or attached to Government hospitals, clinics or medical or dental laboratories.

13. Appointment of Persons with Mental Retardation, Severe Physical Disabilities, or Psychiatric Disabilities.

14. Positions for which a local recruiting shortage exists when filled by inmates of Federal, District of Columbia, and State (including the Commonwealth of Puerto Rico, the Virgin Islands, Guam, American Samoa, and the Trust Territory of the Pacific Islands) penal and correctional institutions under work-release programs authorized by the Prisoner Rehabilitation Act of 1965, the District of Columbia Work Release Act, or under work-release programs authorized by the States.

15. Not to exceed 30 positions of assistants to top-level Federal officials when filled by persons designated by the President as White House Fellows.

16. Scientific and professional research associate positions at GS-11 and above when filled on a temporary basis by persons having a doctoral degree in an appropriate field of study for research activities of mutual interest to appointees and their agencies.

17. Positions when filled by aliens in the absence of qualified citizens.

18. Not to exceed 24 positions when filled in accordance with an agreement between OPM and the Department of Justice by persons in programs administered by the Attorney General of the United States under Public Law 91-452 and related statutes.

19. Positions of Fellows in the Presidential Management Fellows Program.

20. Positions of Senior Fellows in the Presidential Management Fellows Program.

21. Positions as needed of readers for blind employees, interpreters for deaf employees and personal assistants for handicapped employees.

22. Positions on the staffs of temporary organizations, as defined in 5 U.S.C. 3161(a).

The following summary of Schedule A exceptions, current as of June 30, 2008, are agency-specific and are not codified in the Code of Federal Regulations. Agencies should consult with their headquarters to read the full authority.

23. Executive Office of the President

Office of Administration—Not to exceed 75 positions to provide administrative services and support to the White House Office.

Office of Management and Budget—Not to exceed 15 positions at grades GS-5/15.

Council on Environmental Quality—Professional and technical positions in grades GS-9 through 15 on the staff of the Council.

National Security Council—All positions on the staff of the Council.

Office of Science and Technology Policy—Thirty positions of Senior Policy Analyst, GS-15; Policy Analyst, GS-11/14; and Policy Research Assistant, GS-9; for employment of anyone not to exceed 5 years on projects of a high priority nature.

Office of National Drug Control Policy—Not to exceed 15 positions, GS-15 and below, of senior policy analysts and other personnel with expertise in drug-related issues and/or technical knowledge to aid in anti-drug abuse efforts.

24. Department of State

Office of the Secretary—All positions, GS-15 and below, on the staff of the Family Liaison Office, Director General of the Foreign Service and the Director of Personnel, Office of the Under Secretary for Management.

One position of Museum Curator (Arts), in the Office of the Under Secretary for Management, whose incumbent will serve as Director, Diplomatic Reception Rooms. No new appointments may be made after February 28, 1997.

American Embassy, Paris, France—Chief, Travel and Visitor Unit. No new appointments may be made under this authority after August 10, 1981.

Bureau of Population, Refugees, and Migration—Not to exceed 10 positions at grades GS-5 through 11 on the staff of the Bureau.

Bureau of Administration—One Presidential Travel Officer. No new appointments may be made under this authority after June 11, 1981.

One position as Director, Art in Embassies Program, GM-1001-15.

Up to 250 time-limited positions within the Department of State in support of the June 2004 Economic Summit of Industrial Nations. No new appointments may be made under this authority after June 30, 2004.

25. Department of the Treasury

Office of the Secretary—Not to exceed 20 positions at the equivalent of GS-13 through GS-17 to supplement permanent staff in the study of complex problems relating to international financial, economic, trade, and energy policies and programs of the Government, when filled by individuals with special qualifications for the particular study being undertaken.

Not to exceed 20 positions, which will supplement permanent staff involved in the study and analysis of complex problems in the area of domestic economic and financial policy.

Not to exceed 50 positions in the Office of the Under Secretary (Enforcement).

U.S. Customs Service—Positions in foreign countries designated as “interpreter-translator” and “special employees” when filled by appointment of persons who are not citizens of the United States; and messenger and janitor positions in foreign countries.

Not to exceed 25 positions of Customs Patrol Officers in the Papago Indian Agency in the State of Arizona when filled by the appointment of persons of one-fourth or more Indian blood.

Office of Thrift Supervision (OTS)—All positions in the supervision policy and supervision operations functions of OTS. No new appointments may be made under this authority after December 31, 1993.

Internal Revenue Service—Twenty positions of investigator for special assignments.

Bureau of Alcohol, Tobacco, and Firearms—One hundred positions of criminal investigator for special assignments. One non-permanent Senior Level (SL) Criminal Investigator to serve as a senior advisor to the Assistant Director (Firearms, Explosives, and Arson).

26. Department of Defense (DOD)

Office of the Secretary—One Executive Secretary, US-USSR Standing Consultative Commission and Staff Analyst (SALT), Office of the Assistant Secretary of Defense (International Security Affairs).

Entire Department (including the Office of the Secretary of Defense and the Departments of the Army, Navy, and Air Force)—Professional positions in Military Dependent School Systems overseas.

Positions in attache 1 systems overseas, including all professional and scientific positions in the Naval Research Branch Office in London.

Positions of clerk-translator, translator, and interpreter overseas; positions of Educational Specialist the incumbents of which will serve as Director of Religious Education on the staffs of the chaplains in the military services.

Positions under the program for utilization of alien scientists, approved under pertinent directives administered by the Director of Defense Research and Engineering of the Department of Defense, when occupied by alien scientists initially employed under the program including those who have acquired United States citizenship during such employment.

Positions in overseas installations of the DOD when filled by dependents of military or civilian employees of the U.S. Government residing in the area.

Twenty secretarial and staff support positions at GS-12 or below on the White House Support Group.

Positions in DOD research and development activities occupied by participants in the DOD Science and Engineering Apprenticeship Program for High School Students.

Positions engaged in the reconstruction of Iraq for hiring non-U.S. citizens when there is a severe shortage of candidates with U.S. citizenship. This authority is limited to appointments made on or before July 1, 2004, and is subject to any restrictions set forth in the Department of Defense FY 2002 Appropriations Act.

Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after March 31, 2009.

General—Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

Positions involved in intelligence-related work of the cryptologic intelligence activities of the military departments. This includes all positions of intelligence research specialist, and similar positions in the intelligence classification series; all scientific and technical positions involving the applications of engineering, physical or technical sciences to intelligence work; and professional as well as intelligence technician positions in which a majority of the incumbent's time is spent in advising, administering, supervising, or performing work in the collection, processing, analysis, production, evaluation, interpretation, dissemination, and estimation of intelligence information or in the planning, programming, and management of intelligence resources.

Uniformed Services University of the Health Sciences—Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows, and positions established to perform work on projects funded from grants.

National Defense University—Not to exceed 16 positions of senior policy analyst, GS-15, at the Strategic Concepts Development Center.

Defense Communications Agency—Not to exceed 10 positions at grades GS-10/15 to staff and support the Crisis Management Center at the White House.

Defense Acquisitions University—The Provost and professors.

George C. Marshall European Center for Security Studies, Garmisch, Germany—The Director, Deputy Director, and positions of professor, instructor, and lecturer at the George C. Marshall European Center for Security Studies, Garmisch, Germany.

Asia-Pacific Center for Security Studies, Honolulu, Hawaii—The Director, Deputy Director, Dean of Academics, Director of College, deputy department chairs, and senior positions of professor, associate professor, and research fellow within the Asia Pacific Center.

Business Transformation Agency—Fifty temporary or time-limited (not to exceed four years) positions, at grades GS-11-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

27. Department of the Army

U.S. Military Academy, West Point, New York—Civilian professors, instructors, teachers (except teachers at the Children's School), Cadet Social Activities Coordinator, Chapel Organist and Choir-Master, Director of Intercollegiate Athletics, Associate Director of Intercollegiate Athletics, coaches, Facility Manager, Building Manager, three Physical Therapists (Athletic Trainers), Associate Director of Admissions for Plans and Programs, Deputy Director of Alumni Affairs; and librarian when filled by an officer of the Regular Army retired from active service, and the military secretary to the Superintendent when filled by a U.S. Military Academy graduate retired as a regular commissioned officer for disability.

Defense Language Institute—All positions (professors, instructors, lecturers) which require proficiency in a foreign language or knowledge of foreign language teaching methods.

Army War College, Carlisle Barracks, PA—Positions of professor, instructor, or lecturer associated with courses of instruction of at least 10 months duration for employment not to exceed 5 years, which may be renewed in 1-, 2-, 3-, 4-, or 5-year increments indefinitely thereafter.

U.S. Military Academy Preparatory School, Fort Monmouth, New Jersey—Positions of academic director, department head, and instructor.

U.S. Army Command and General Staff College, Fort Leavenworth, Kansas—Positions of professor, associate professor, assistant professor, and instructor associated with courses of instruction of at least 10 months duration, for employment not to exceed up to 5 years, which may be renewed in 1-, 2-, 3-, 4-, or 5-year increments indefinitely thereafter.

28. Department of the Navy

General—Marine positions assigned to a coastal or seagoing vessel operated by a naval activity for research or training purposes. All positions necessary for the administration and maintenance of the official residence of the Vice President.

Naval Academy, Naval Postgraduate School, and Naval War College—Professors, instructors, and teachers; the Director of Academic Planning, Naval Postgraduate School; and the Librarian, Organist-Choirmaster, Registrar, the Dean of Admissions, and social counselors at the Naval Academy.

Chief of Naval Operations—One position at grade GS-12 or above that will provide technical, managerial, or administrative support on highly classified functions to the Deputy Chief of Naval Operations (Plans, Policy, and Operations).

Military Sealift Command—All positions on vessels operated by the Military Sealift Command.

Pacific Missile Range Facility, Barking Sands, Hawaii—All positions. This authority applies only to positions that must be filled pending final decision on contracting of facility operations. No new appointments may be made under this authority after July 29, 1988.

Office of Naval Research—Scientific and technical positions, GS-13/15, in the Office of Naval Research International Field Office which covers satellite offices within the Far East, Africa, Europe, Latin America, and the South Pacific. Positions are to be filled by personnel having specialized experience in scientific and/or technical disciplines of current interest to the Department of the Navy.

29. Department of the Air Force

Office of the Secretary—One special assistant in the Office of the Secretary of the Air Force. This position has advisory rather than operating duties except as operating or administrative responsibilities may be exercised in connection with the pilot studies.

General—Professional, technical, managerial and administrative positions supporting space activities, when approved by the Secretary of the Air Force.

One hundred eighty positions, serviced by Hill Air Force Base, Utah, engaged in interdepartmental activities in support of national defense projects involving scientific and technical evaluations.

Norton and McClellan Air Force Bases, California—Not to exceed 20 professional positions, GS-11 through GS-15, in Detachments 6 and 51, SM-ALC, Norton and McClellan Air Force Bases, California, which will provide logistic support management to specialized research and development projects.

U.S. Air Force Academy, Colorado—Positions of Professor, Associate Professor, Assistant Professor, and Instructor, in the Dean of Faculty, Commandant of Cadets, Director of Athletics, and Preparatory School of the United States Air Force Academy.

Air Force Office of Special Investigations—Positions of Criminal Investigators/Intelligence Research Specialists, GS-5 through GS-15, in the Air Force Office of Special Investigations.

Wright-Patterson Air Force Base, Ohio—Not to exceed eight positions, GS-12 through 15, in Headquarters Air Force Logistics Command, DCS Material Management, Office of Special Activities, Wright-Patterson Air Force Base, Ohio, which will provide logistic support management staff guidance to classified research and development projects.

Air University, Maxwell Air Force Base, Alabama—Positions of Professor, Instructor, or Lecturer.

Air Force Institute of Technology, Wright-Patterson Air Force Base, Ohio—Civilian deans and professors.

Air Force Logistics Command—One Supervisory Logistics Management Specialist, GM-346-14, in Detachment 2, 2762 Logistics Management Squadron (Special), Greenville, Texas.

2762nd Logistics Squadron (Special)—One position of Supervisory Logistics Management Specialist, GS-346-15, in the 2762nd Logistics Squadron (Special), at Wright-Patterson Air Force Base, Ohio.

Air National Guard Readiness Center—One position of Commander, Air National Guard Readiness Center, Andrews Air Force Base, Maryland.

30. Department of Justice

General—Deputy U.S. Marshals employed on an hourly basis for intermittent service. Positions at GS-15 and below on the staff of an office of a special counsel.

Positions of Program Manager and Assistant Program Manager supporting the International Criminal Investigative Training Assistance Program in foreign countries.

Immigration and Naturalization Service—Not to exceed 500 positions of interpreters and language specialists, GS-1040-5/9.

Not to exceed 25 positions, GS-15 and below, with proficiency in speaking, reading, and writing the Russian language and serving in the Soviet Refugee Processing Program with permanent duty location in Moscow, Russia.

Drug Enforcement Administration—Four hundred positions of Intelligence Research Agent and/or Intelligence Operation Specialist in the GS-132 series, grades GS-9 through GS-15. Not to exceed 200 positions of Criminal Investigator (Special Agent). New appointments may be made under this authority only at grades GS-7/11.

National Drug Intelligence Center—All positions.

31. Department of Homeland Security

Up to 50 positions at the GS-5 through 15 grade levels at the Department of Homeland Security. No new appointments may be made under this authority after September 30, 2005.

Ten positions for oversight policy and direction of sensitive law enforcement activities. Up to 15 Senior Level and General Schedule (or equivalent) positions within the Homeland Security Labor Relations Board and the Homeland Security Mandatory Removal Board.

32. Department of the Interior

General—Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

All positions on Government-owned ships or vessels operated by the Department of the Interior. Temporary or seasonal caretakers at temporarily closed camps or improved areas to maintain grounds, buildings, or other structures and prevent damages or theft of Government property. Such appointments shall not extend beyond 130 working days a year without the prior approval of OPM.

Temporary, intermittent, or seasonal field assistants at GS-7, or its equivalent, and below in such areas as forestry, range management, soils, engineering, fishery and wildlife management, and with surveying parties.

Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

Persons employed in field positions, the work of which is financed jointly by the Department of the Interior and cooperating persons or organizations outside the Federal service.

All positions in the Bureau of Indian Affairs and other positions in the Department of the Interior directly and primarily related to providing services to Indians when filled by the appointment of Indians. The Secretary of the Interior is responsible for defining the term “Indian.”

Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

Temporary, part-time, or intermittent employment of mechanics, skilled laborers, equipment operators and tradesmen on construction, repair, or maintenance work not to exceed 180 working days a year in Alaska, when the activity is carried on in a remote or isolated area and there is a shortage of available candidates for the positions.

Seasonal airplane pilots and airplane mechanics in Alaska, not to exceed 180 working days a year.

Temporary staff positions in the Youth Conservation Corps Centers operated by the Department of the Interior. Employment under this authority shall not exceed 11 weeks a year except with prior approval of OPM.

Positions in the Youth Conservation Corps for which pay is fixed at the Federal minimum wage rate. Employment under this authority may not exceed 10 weeks.

Indian Arts and Crafts Board—The Executive Director.

Office of the Assistant Secretary, Territorial and International Affairs—Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months. Special Assistants to the Governor of American Samoa who perform specialized administrative, professional, technical, and scientific duties as members of his or her immediate staff.

National Park Service—Positions established for the administration of Kalaupapa National Historic Park, Molokai, Hawaii, when filled by appointment of qualified patients and Native Hawaiians, as provided by Public Law 95-565.

Seven full-time permanent and 31 temporary, part-time, or intermittent positions in the Redwood National Park, California, which are needed for rehabilitation of the park, as provided by Public Law 95-250.

One Special Representative of the Director.

All positions in the Grand Portage National Monument, Minnesota, when filled by the appointment of recognized members of the Minnesota Chippewa Tribe.

Bureau of Reclamation—Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

Office of the Deputy Assistant Secretary for Territorial Affairs—Positions of Territorial Management Interns, GS-5, when filled by persons selected by the Government of the Trust Territory of the Pacific Islands. No appointment may extend beyond 1 year.

33. Department of Agriculture

General—Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

Farm Service Agency—Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

Rural Development—County committeemen to consider, recommend, and advise with respect to the Rural Development program.

Professional and clerical positions in the Trust Territory of the Pacific Islands when occupied by indigenous residents of the Territory to provide financial assistance pursuant to current authorizing statutes.

Agricultural Marketing Service:

Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

Positions of Agricultural Commodity Graders, Agricultural Commodity Technicians, and Agricultural Commodity Aids at grades GS-11 and below in the cotton, raisin, and processed fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

Milk Market Administrators.

All positions on the staffs of the Milk Market Administrators.

Food Safety and Inspection Service—Positions of Meat and Poultry Inspectors (Veterinarians at GS-11 and below and non-Veterinarians at appropriate grades below GS-11) for employment on a temporary, intermittent, or seasonal basis, not to exceed 1,280 hours a year.

Grain Inspection, Packers and Stockyards Administration—One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

Alternative Agricultural Research and Commercialization Corporation—Executive Director.

34. Department of Commerce

General—Not to exceed 50 scientific and technical positions whose duties are performed primarily in the Antarctic. Incumbents of these positions may be stationed in the continental United States for periods of orientation, training, analysis of data, and report writing.

Bureau of the Census—Managers, supervisors, technicians, clerks, interviewers, and enumerators in the field service, for time-limited employment to conduct a census. Current Program Interviewers employed in the field service.

Office of the Under Secretary for International Trade:

Fifteen positions at GS-12 and above in specialized fields relating to international trade or commerce in units under the jurisdiction of the Under Secretary for International Trade.

Incumbents will be assigned to advisory rather than to operating duties, except as operating and administrative responsibility may be required for the conduct of pilot studies or special projects. Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters.

National Oceanic and Atmospheric Administration:

All civilian positions on vessels operated by the National Ocean Service.

Temporary positions required in connection with the surveying operations of the field service of the National Ocean Service. Appointment to such positions shall not exceed 8 months in any 1 calendar year.

National Telecommunication and Information Administration—Thirty-eight professional positions in grades GS-13 through GS-15.

35. Department of Labor

Office of the Secretary—Chairman and five members, Employees' Compensation Appeals Board. Chairman and eight members, Benefits Review Board.

Employment and Training Administration—Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

36. Department of Health and Human Services

General—Intermittent positions, at GS-15 and below and WG-10 and below, on teams under the National Disaster Medical System including Disaster Medical Assistance Teams and specialty teams, to respond to disasters, emergencies, and incidents/events involving medical, mortuary and public health needs.

Public Health Service:

Positions at Government sanatoria when filled by patients during treatment or convalescence. Positions concerned with problems in preventive medicine financed or participated in by the Department of Health and Human Services and a cooperating State, county, municipality, incorporated organization, or an individual in which at least one-half of the expense is contributed by the participating agency either in salaries, quarters, materials, equipment, or other necessary elements in the carrying on of the work.

Not to exceed 50 positions associated with health screening programs for refugees.

All positions in the Public Health Service and other positions in the Department of Health and Human Services directly and primarily related to providing services to Indians when filled by the appointment of Indians. The Secretary of Health and Human Services is responsible for defining the term “Indian.”

Health care positions of the National Health Service Corps for employment of any one individual not to exceed 4 years of service in health manpower shortage areas. Not to exceed 200 staff positions, GS-15 and below, in the Immigration Health Service, for an emergency staff to provide health related services to foreign entrants.

The President's Council on Physical Fitness—Four staff assistants.

37. Department of Education

Positions concerned with problems in education financed and participated in by the Department of Education and a cooperating State educational agency, or university or college, in which there is joint responsibility for selection and supervision of employees, and at least one-half of the expense is contributed by the cooperating agency in salaries, quarters, materials, equipment, or other necessary elements in the carrying on of the work.

38. Board of Governors, Federal Reserve System

All positions.

39. Department of Veterans Affairs

Construction Division—Temporary construction workers paid from “purchase and hire” funds and appointed for not to exceed the duration of a construction project.

Alcoholism Treatment Units and Drug Dependence Treatment Centers—Not to exceed 400 positions of rehabilitation counselors, GS-3 through GS-11, in Alcoholism Treatment Units and Drug Dependence Treatment Centers, when filled by former patients.

Board of Veterans' Appeals:

Positions, GS-15, when filled by a member of the Board. Except as provided by section 201(d) of Public Law 100-687, appointments under this authority shall be for a term of 9 years, and may be renewed.

Positions, GS-15, when filled by a non-member of the Board who is awaiting Presidential approval for appointment as a Board member.

Vietnam Era Veterans Readjustment Counseling Service—Not to exceed 600 positions at grades GS-3 through GS-11, involved in the Department's Vietnam Era Veterans Readjustment Counseling Service.

40. Small Business Administration

When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained in paragraph (b) below. No one may be appointed under this authority to positions engaged in long-term maintenance of loan portfolios.

When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

41. Federal Deposit Insurance Corporation

Temporary positions located at closed banks or savings and loan institutions that are concerned with liquidating the assets of the institutions, liquidating loans to the institutions, or paying the depositors of closed insured institutions.

42. U.S. Soldiers' and Airmen's Home

Positions when filled by member-residents of the Home.

43. Selective Service System

State Directors.

44. National Aeronautics and Space Administration

One hundred and fifty alien scientists having special qualifications in the fields of aeronautical and space research where such employment is deemed by the Administrator of the National Aeronautics and Space Administration to be necessary in the public interest.

45. Social Security Administration

Six positions of Social Insurance Representative in the district offices of the Social Security Administration in the State of Arizona when filled by the appointment of persons of one-fourth or more Indian blood.

Seven positions of Social Insurance Representative in the district offices of the Social Security Administration in the State of New Mexico when filled by the appointment of persons of one-fourth or more Indian blood.

Two positions of Social Insurance Representative in the district offices of the Social Security Administration in the State of Alaska when filled by the appointments of persons of one-fourth or more Alaskan Native blood (Eskimos, Indians, or Aleuts).

46. The President's Crime Prevention Council

Up to 7 positions established in the President's Crime Prevention Council office created by the Violent Crime Control and Law Enforcement Act of 1994. No new appointments may be made under this authority after March 31, 1998.

47. Chemical Safety and Hazard Investigation Board

Seven positions of either Chemical Incident Investigators or Chemical Safety Recommendation Specialists, in the Office of Investigations and Safety Programs. No new appointments may be made under this authority after October 15, 2002, or until the seventh person (who was given an offer of employment on September 13, 2002, and is waiting a physical examination clearance) is appointed, whichever is later.

48. Court Services and Offender Supervision Agency of the District of Columbia

All positions, except for the Director, established to create the Court Services and Offender Supervision Agency of the District of Columbia. No new appointments may be made under this authority after March 31, 2004.

49. Millennium Challenge Corporation

Positions of Resident Country Directors and Deputy Resident Country Directors. The length of appointments will correspond to the length or term of the compact agreements made between the Millennium Challenge Corporation (MCC) and the country in which MCC will work, plus one additional year to cover pre- and post-compact agreement related activities.

50. Smithsonian Institution

All positions located in Panama which are part of or which support the Smithsonian Tropical Research Institute.

Positions at GS-15 and below in the National Museum of the American Indian requiring knowledge of, and experience in, tribal customs and culture. Such positions comprise approximately 10 percent of the Museum's positions and, generally, do not include secretarial, clerical, administrative, or program support positions.

51. Woodrow Wilson International Center for Scholars

One Asian Studies Program Administrator, one International Security Studies Program Administrator, one Latin American Program Administrator, one Russian Studies Program Administrator, one West European Program Administrator, one Environmental Change & Security Studies Program Administrator, one United States Studies Program Administrator, two Social Science Program Administrators, and one Middle East Studies Program Administrator.

52. Community Development Financial Institutions Fund

All positions in the Fund and positions created for the purpose of establishing the Fund's operations in accordance with the Community Development Banking and Financial Institutions Act of 1994, except for any positions required by the Act to be filled by competitive appointment. No new appointments may be made under this authority after September 23, 1998.

53. Utah Reclamation and Conservation Commission

Executive Director.

54. National Foundation on the Arts and the Humanities

National Endowment for the Arts—Artistic and related positions at grades GS-13 through GS-15 engaged in the review, evaluation and administration of applications and grants supporting the arts, related research and assessment, policy and program development, arts education, access programs and advocacy or evaluation of critical arts projects and outreach programs. Duties require artistic stature, in-depth knowledge of arts disciplines and/or artistic-related leadership qualities.

55. African Development Foundation

One Enterprise Development Fund Manager.

56. Office of Personnel Management

Part-time and intermittent positions of test examiners at grades GS-8 and below.

57. Department of Transportation

U.S. Coast Guard—Lamplighters.

Professors, Associate Professors, Assistant Professors, Instructors, one Principal Librarian, one Cadet Hostess, and one Psychologist (Counseling) at the Coast Guard Academy, New London, Connecticut.

Maritime Administration:

All positions on Government-owned vessels or those bareboats chartered to the Government and operated by or for the Maritime Administration.

U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

U.S. Merchant Marine Academy positions of: Associate Dean; Registrar; Director of Admissions; Assistant Director of Admissions; Director, Office of External Affairs; Placement Officer; Administrative Librarian; Shipboard Training Assistant; three Academy Training Representatives; and one Education Program Assistant.

58. Federal Emergency Management Agency

Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort.

Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority.

Not to exceed 350 professional and technical positions at grades GS-5 through GS-15, or equivalent, in Mobile Emergency Response Support Detachments (MERS).

59. Temporary Organizations

Positions on the staffs of temporary organizations, as defined in 5 U.S.C. 3161(a). Appointments may not exceed 3 years, but temporary organizations may extend the appointments for 2 additional years if the conditions for extension are related to the completion of the study or project.

The following summary of Schedule B excepted authorities are authorized for Governmentwide use and are codified in 5 CFR part 213. Please consult 5 CFR, part 213 to read the full authority.

Schedule B

Entire Executive Civil Service

1. Student Educational Employment Program—Student Temporary Employment Program.

2. Student Educational Employment Program—Student Career Experience Program.

3. Special executive development positions established in connection with Senior Executive Service candidate development programs which have been approved by OPM.

4. Positions when filled under any of the following conditions:

a. Appointment at grades GS-15 and above, or equivalent, in the same or a different agency without a break in service from a career appointment in the Senior Executive Service (SES) of an individual who has completed the SES probationary period; been removed from the SES because of less than fully successful executive performance, failure to be recertified, or a reduction in force; and is entitled to be placed in another civil service position under 5 U.S.C. 3594(b).

b. Appointment in a different agency without a break in service of an individual originally appointed under this paragraph.

c. Reassignment, promotion, or demotion within the same agency of an individual appointed under this authority.

5. Positions when filled by preference eligibles or veterans who have been separated from the armed forces under honorable conditions after 3 years or more of continuous active service and who, in accordance with 5 U.S.C. 3304(f) (Pub. L. 105-339), applied for these positions under merit promotion procedures when applications were being accepted by the agency from individuals outside its own workforce. These veterans may be promoted, demoted, or reassigned, as appropriate, to other positions within the agency but would remain employed under this excepted authority as long as there is no break in service. No new appointments may be made under this authority after November 30, 1999.

6. The Federal Career Intern Program

The following summary of Schedule B exceptions, current as of June 30, 2008, are agency-specific and are not codified in the Code of Federal Regulations (CFR). Agencies should consult with their headquarters to read the full authority.

7. Executive Office of the President

Office of the Special Representative for Trade Negotiations—Seventeen positions of economist at grades GS-12 through GS-15.

8. Department of State

One non-permanent senior level position to serve as Science and Technology Advisor to the Secretary.

Fourteen positions on the household staff of the President's Guest House (Blair and Blair-Lee Houses).

Scientific, professional, and technical positions at grades GS-12 to GS-15 when filled by persons having special qualifications in foreign policy matters.

9. Department of the Treasury

Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

Positions concerned with the protection of the life and safety of the President and members of his immediate family, or other persons for whom similar protective services are prescribed by law, when filled in accordance with special appointment procedures approved by OPM.

Positions, grades GS-5 through 12, of Treasury Enforcement Agent in the Bureau of Alcohol, Tobacco, and Firearms; and Treasury Enforcement Agent, Pilot, Marine Enforcement Officer, and Aviation Enforcement Officer in the U.S. Customs Service. Service under this authority may not exceed 3 years and 120 days.

10. Department of Defense

Office of the Secretary—Professional positions at GS-11 through GS-15 involving systems, costs, and economic analysis functions in the Office of the Assistant Secretary (Program Analysis and Evaluation); and in the Office of the Deputy Assistant Secretary (Systems Policy and Information) in the Office of the Assistant Secretary (Comptroller).

Four Net Assessment Analysts.

Interdepartmental activities:

Six positions to provide general administration, general art and information, photography, and/or visual information support to the White House Photographic Service.

Eight positions, GS-15 or below, in the White House Military Office, providing support for airlift operations, special events, security, and/or administrative services to the Office of the President.

National Defense University—Sixty-one positions of Professor, GS-13/15, for employment of any one individual on an initial appointment not to exceed 3 years, which may be renewed in any increment from 1 to 6 years indefinitely thereafter.

General

One position of Law Enforcement Liaison Officer (Drugs), GS-301-15, U.S. European Command.

Acquisition positions at grades GS-5 through GS-11, whose incumbents have successfully completed the required course of education as participants in the Department of Defense scholarship program authorized under 10 U.S.C. 1744.

Office of the Inspector General—Positions of Criminal Investigator, GS-1811-5/15.

Department of Defense Polygraph Institute, Fort McClellan, Alabama—One Director, GM-15.

Defense Security Assistance Agency—All faculty members with instructor and research duties at the Defense Institute of Security Assistance Management, Wright Patterson Air Force Base, Dayton, Ohio.

11. Department of the Army

U.S. Army Command and General Staff College—Seven positions of professors, instructors, and education specialists. Total employment of any individual under this authority may not exceed 4 years.

12. Department of the Navy

Naval Underwater Systems Center, New London, Connecticut—One position of Oceanographer, grade GS-14, to function as project director and manager for research in the weapons systems applications of ocean eddies.

Armed Forces Staff College, Norfolk, Virginia—All civilian faculty positions of professors, instructors, and teachers on the staff of the Armed Forces Staff College, Norfolk, Virginia.

Defense Personnel Security Research and Education Center—One Director and four Research Psychologists at the professor or GS-15 level in the Defense Personnel Security Research and Education Center.

Marine Corps Command and Staff College—All civilian professor positions at the Marine Corps Command and Staff College.

Executive Dining Facilities at the Pentagon—One position of Staff Assistant, GS-301, whose incumbent will manage the Navy's Executive Dining Facilities at the Pentagon.

Bachelor Quarters Management Study—One position of Housing Management Specialist, GM-1173-14, involved with the Bachelor Quarters Management Study. No new appointments may be made under this authority after February 29, 1992.

13. Department of the Air Force

Air Research Institute at the Air University, Maxwell Air Force Base, Alabama—Not to exceed four interdisciplinary positions for the Air Research Institute at the Air University, Maxwell Air Force Base, Alabama, for employment to complete studies proposed by candidates and acceptable to the Air Force.

Air University—Positions of Instructor or professional academic staff at the Air University associated with courses of instruction of varying durations, for employment not to exceed 3 years, which may be renewed for an indefinite period thereafter.

U.S. Air Force Academy, Colorado—One position of Director of Development and Alumni Programs, GS-301-13, with the U.S. Air Force Academy, Colorado.

14. Department of Justice

Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

Not to exceed 400 positions at grades GS-5 through 15 assigned to regional task forces established to conduct special investigations to combat drug trafficking and organized crime. Positions, other than secretarial, GS-6 through GS-15, requiring knowledge of the bankruptcy process, on the staff of the offices of United States Trustees or the Executive Office for U.S. Trustees.

15. Department of Agriculture

Foreign Agricultural Service—Positions of a project nature involved in international technical assistance activities. Service under this authority may not exceed 5 years on a single project for any individual unless delayed completion of a project justifies an extension up to but not exceeding 2 years.

General

Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

Not to exceed 55 Executive Director positions, GM-301-14/15, with the State Rural Development Councils in support of the Presidential Rural Development Initiative.

16. Department of Commerce

Bureau of the Census—Not to exceed 50 Community Services Specialist positions at the equivalent of GS-5 through GS-12.

National Telecommunications and Information Administration—Not to exceed 10 positions of Telecommunications Policy Analysts, grades GS-11 through 15.

17. Department of Labor

Administrative Review Board—Chair and a maximum of four additional Members.

Bureau of International Labor Affairs—Positions in the Office of Foreign Relations, which are paid by outside funding sources under contracts for specific international labor market technical assistance projects. Appointments under this authority may not be extended beyond the expiration date of the project.

18. Department of Education

Seventy-five positions, not to exceed GS-13, of a professional or analytical nature when filled by persons, other than college faculty members or candidates working toward college degrees, who are participating in mid-career development programs authorized by Federal statute or regulation, or sponsored by private nonprofit organizations, when a period of work experience is a requirement for completion of an organized study program.

Fifty positions, GS-7 through GS-11, concerned with advising on education policies, practices, and procedures under unusual and abnormal conditions. Persons employed under this provision must be bona fide elementary school and high school teachers.

19. Department of Veterans Affairs

Not to exceed 800 principal investigatory, scientific, professional, and technical positions at grades GS-11 and above in the medical research program.

Not to exceed 25 Criminal Investigator (Undercover) positions, GS-1811, in grades 5 through 12, conducting undercover investigations in the Veterans Health Administration supervised by the VA, Office of Inspector General.

20. Broadcasting Board of Governors

International Broadcasting Bureau—Not to exceed 200 positions at grades GS-15 and below in the Office of Cuba Broadcasting. Appointments may not be made under this authority to administrative, clerical, and technical support positions.

21. U.S. Soldiers' and Airmen's Home

Director, Health Care Services; Director, Member Services; Director, Logistics; and Director, Plans and Programs.

22. National Archives and Records Administration

Executive Director, National Historical Publications and Records Commission.

23. National Aeronautics and Space Administration

Not to exceed 40 positions of Command Pilot, Pilot, and Mission Specialist candidates at grades GS-7 through 15 in the Space Shuttle Astronaut program. Employment under this authority may not exceed 3 years.

24. Social Security Administration

Temporary and time-limited positions in the Ticket to Work and Work Incentives Advisory Panel. No employees may be appointed after November 17, 2007.

25. Smithsonian Institution

Freer Gallery of Art—Not to exceed four positions of Oriental Art Restoration Specialist at grades GS-9 through GS-15.

26. Appalachian Regional Commission

Two Program Coordinators.

27. Armed Forces Retirement Home

Naval Home, Gulfport, Mississippi—One Resource Management Officer position and one Public Works Officer position, GS/GM-15 and below.

28. National Foundation on the Arts and the Humanities

National Endowment for the Humanities—Professional positions at grades GS-11 through GS-15 engaged in the review, evaluation, and administration of grants supporting scholarship, education, and public programs in the humanities, the duties of which require in-depth knowledge of a discipline of the humanities.

29. Office of Personnel Management

Not to exceed eight positions of Associate Director at the Executive Seminar Centers at grades GS-13 and GS-14. Appointments may be made for any period up to 3 years and may be extended without prior approval for any individual. Not more than half of the authorized faculty positions at any one Executive Seminar Center may be filled under this authority.

Twelve positions of faculty members at grades GS-13 through 15, at the Federal Executive Institute.

The following summary of Schedule C exceptions, current as of June 30, 2008, are agency-specific and are not codified in the Code of Federal Regulations.

Schedule C

Executive Office of the President

Council of Economic Advisers

CEGS60001 Confidential Assistant to the Chairman

CEGS60004 Confidential Assistant to the Chairman

CEGS60005 Administrative Operations Assistant to the Member (Council for Economic Advisers)

Council on Environmental Quality

EQGS00018 Associate Director for Congressional Affairs to the Chairman

EQGS60019 Associate Director for Agriculture, Lands and Wildlife to the Chairman

EQGS60021 Special Assistant to the Chairman to the Chairman

Office of Government Ethics

GGGS02900 Confidential Assistant to the Director

Office of Management and Budget

BOGS00151 Deputy Press Secretary to the Associate Director for Communications

BOGS00152 Portfolio Manager to the Administrator, E-Government and Information Technology

BOGS60011 Deputy General Counsel to the General Counsel

BOGS60026 Confidential Assistant to the Associate Director for General Government Programs

BOGS60027 Confidential Assistant to the Administrator, Office of Information and Regulatory Affairs

BOGS70001 Associate General Counsel to the General Counsel and Senior Policy Advisor

BOGS70004 Special Assistant and Counselor to the Controller to the Controller, Office of Federal Financial Management

BOGS70005 Confidential Assistant to the Associate Director for Legislative Affairs

BOGS70008 Deputy to the Associate Director for Legislative Affairs (House) to the Associate Director for Legislative Affairs

BOGS70009 Confidential Assistant to the Deputy Director for Management

BOGS70010 Confidential Assistant to the Deputy Director

BOGS70015 Confidential Assistant to the Associate Director for National Security Programs

BOGS70017 Special Assistant to the Director

BOGS70019 Director of Scheduling to the Director

BOGS70020 Confidential Assistant to the Administrator Office of Federal Procurement Policy

BOGS70021 Confidential Assistant to the Controller, Office of Federal Financial Management

BOGS80002 Confidential Assistant to the Associate Director for Natural Resource Programs

BOGS80003 Deputy to the Associate Director for Legislative Affairs to the Associate Director for Legislative Affairs

BOGS80006 Press Secretary to the Associate Director for Communications

BOGS80007 Confidential Assistant to the Administrator, E-Government and Information Technology

Office of National Drug Control Policy

QQGS00028 White House Liaison and Intergovernmental Affairs Specialist to the Chief of Staff

QQGS60097 Public Affairs Specialist to the Counselor to the Deputy Director

QQGS70001 Public Affairs Specialist to the Associate Director for Public Affairs

QQGS70002 Confidential Assistant to the Associate Director for Public Affairs

QQGS70003 Deputy Chief of Staff to the Chief of Staff

QQGS70004 Public Affairs Specialist (Media Campaign) to the Associate Director for Public Affairs

QQGS70005 Confidential Assistant to the Deputy Chief of Staff

QQGS70006 Counselor to the Deputy Director to the Deputy Director for Demand Reduction

QQGS70009 Special Assistant to the Director to the Chief of Staff

QQGS70011 Confidential Assistant to the Director

QQGS70012 Policy Analyst to the Deputy Director for State, Local and Tribal Affairs

QQGS80002 Special Assistant to the Director to the Chief of Staff

QQGS80003 Confidential Assistant to the Director to the Deputy Chief of Staff

QQGS80004 Policy Analyst to the Chief of Staff

QQGS80005 Confidential Assistant to the Director

QQGS80007 Confidential Assistant to the Deputy Chief of Staff

QQGS80008 Special Assistant to the Associate Director for the Office of Legislative Affairs to the Associate Director Office of Legislative Affairs

QQGS80010 Legislative Analyst to the Associate Director Office of Legislative Affairs

Office of Personnel Management

PMGS00033 Chief, Office of Senate Affairs to the Director, Office of Congressional Relations

PMGS00043 White House Liaison to the Chief of Staff and Director of External Affairs

PMGS00052 Special Counsel to the General Counsel

PMGS00057 Executive Director to Chief Human Capital Officer Council to the Executive Director and Senior Counselor

PMGS00070 Deputy White House Liaison to the Chief of Staff and Director of External Affairs

PMGS00071 Scheduler and Special Assistant to the Chief of Staff and Director of External Affairs

PMGS30249 Congressional Relations Officer to the Director, Office of Congressional Relations

PMGS60009 Special Assistant to the Director, Office of Communications and Public Liaison

PMGS60018 Special Assistant to the Director, Office of Communications and Public Liaison

PMGS60019 Special Assistant to the Director, Office of Communications and Public Liaison

Official Residence of the Vice President

RVGS00005 Deputy Social Secretary and Residence Manager to the Assistant to the Vice President and Deputy Chief of Staff

Office of Science and Technology Policy

TSGS60043 Program Management Specialist to the Chief of Staff and General Counsel

TSGS60044 Assistant to the Director for Communications and Public Affairs to the Chief of Staff and General Counsel

TSGS60045 Assistant to the Director for Legislative Affairs to the Chief of Staff and General Counsel

TSGS60046 Assistant Director for Telecommunications and Information Technology to the Chief of Staff and General Counsel

TSGS60047 Deputy Chief of Staff and Associate General Counsel to the Chief of Staff and General Counsel

TSGS80001 Policy Assistant to the Chief of Staff and General Counsel

Office of the United States Trade Representative

TNGS70001 Confidential Assistant to the Chief of Staff and Associate Director for Scheduling and Advance to the Chief of Staff

TNGS70002 Special Assistant to Deputy United States Representative to the Deputy United States Trade Representative

TNGS70004 Executive Assistant to the United States Trade Representative to the United States Trade Representative

TNGS70005 Director of Scheduling and Advance to the United States Trade Representative

TNGS70006 Deputy Assistant United States Trade Representative for Public and Media Affairs to the Assistant United States Trade Representative for Public and Media Affairs

TNGS70008 Deputy Assistant United States Trade Representative for Congressional Affairs to the Assistant United States Trade Representative for Congressional Affairs

TNGS80001 Speechwriter to the Assistant United States Trade Representative for Public and Media Affairs

Federal Communications Commission

FCGS00196 Director, Office of Legislative Affairs to the Chairman

FCGS06040 Special Assistant to the Chairman

FCGS07052 Bureau Chief to the Chairman

FCGS95448 Attorney Advisor (Legal Advisor) to the Chairman

President's Commission on White House Fellowships

WHGS00018 Special Assistant to the Director, President's Commission on White House Fellowships

WHGS00020 Staff Assistant to the Associate Director

Department of State

DSGS60152 Supervisory Foreign Affairs Officer to the Under Secretary for Global Affairs

DSGS60201 Staff Assistant to the Under Secretary for Global Affairs

DSGS60267 Foreign Affairs Officer to the Principal Deputy Assistant Secretary

DSGS60389 Senior Advisor to the Assistant Secretary, Bureau of Educational and Cultural Affairs

DSGS60394 Legislative Management Officer to the Assistant Secretary for Legislative and Intergovernmental Affairs

DSGS60395 Director, Art in Embassies Program to the Deputy Assistant Secretary

DSGS60417 Supervisory Foreign Affairs Officer to the Under Secretary for Global Affairs

DSGS60734 Public Affairs Specialist to the Assistant Secretary for Public Affairs

DSGS60749 Special Assistant to the Deputy Assistant Secretary

DSGS60765 Public Affairs Specialist to the Assistant Secretary for Public Affairs Special Assistant to the Under Secretary for Management

DSGS60774 Special Assistant to the Coordinator

DSGS60793 Chief, Voluntary Visitors Division to the Assistant Secretary, Bureau of Educational and Cultural Affairs

DSGS60971 Public Affairs Specialist to the Assistant Secretary for Public Affairs

DSGS60973 Chief of Staff to the Director, Policy Planning Staff

DSGS60980 Staff Assistant to the Under Secretary for Arms Control and Security Affairs

DSGS60984 Special Assistant to the Senior Advisor to the Secretary and White House Liaison

DSGS60986 Senior Advisor to the Under Secretary for Public Diplomacy and Public Affairs

DSGS60990 Senior Advisor to the Assistant Secretary for Near Eastern and South Asian Affairs

DSGS61014 Assistant Manager, President's Guest House to the Deputy Chief of Protocol

DSGS61019 Senior Advisor to the Under Secretary for Global Affairs

DSGS61022 Special Assistant to the Deputy Assistant Secretary

DSGS61026 Special Assistant to the Under Secretary for Public Diplomacy and Public Affairs

DSGS61038 Special Assistant to the Chief of Protocol

DSGS61040 Staff Assistant to the Deputy Assistant Secretary

DSGS61042 Foreign Affairs Officer to the Assistant Secretary for International Organizational Affairs

DSGS61047 Legislative Management Officer to the Assistant Secretary for Legislative and Intergovernmental Affairs

DSGS61060 Protocol Assistant to the Deputy Chief of Protocol

DSGS61061 Protocol Officer (Gifts) to the Chief of Protocol

DSGS61062 Foreign Affairs Officer (Visits) to the Chief of Protocol

DSGS61071 Public Affairs Specialist to the Assistant Secretary for Public Affairs

DSGS61081 Foreign Affairs Officer to the Director

DSGS61084 Staff Assistant to the Director, Policy Planning Staff

DSGS61085 Senior Advisor to the Assistant Secretary, Bureau of Educational and Cultural Affairs

DSGS61088 Special Assistant to the Chief Financial Officer

DSGS61089 Supervisory Protocol Officer (Visits) to the Chief of Protocol

DSGS61095 Special Assistant to the Deputy Assistant Secretary for Plans, Programs, and Operations

DSGS61096 Senior Advisor to the Director, Policy Planning Staff

DSGS61097 Foreign Affairs Officer (Ceremonials) to the Chief of Protocol

DSGS61098 Legislative Analyst to the Assistant Secretary for Legislative and Intergovernmental Affairs

DSGS61099 Senior Advisor to the Chief of Staff

DSGS61102 Special Assistant to the Senior Advisor to the Secretary and White House Liaison

DSGS61103 Staff Assistant to the Under Secretary for Arms Control and Security Affairs

DSGS61105 Senior Advisor to the Ambassador-At-Large (War Crimes)

DSGS61106 Staff Assistant to the Assistant Secretary for Economic and Business Affairs

DSGS61108 Special Assistant to the Under Secretary for Global Affairs

DSGS61109 Public Affairs Specialist to the Assistant Secretary for Western Hemispheric Affairs

DSGS61110 Special Assistant to the Assistant Secretary for East Asian and Pacific Affairs

DSGS61111 Legislative Management Officer to the Assistant Secretary for Legislative and Intergovernmental Affairs

DSGS61116 Special Assistant to the Deputy Assistant Secretary

DSGS61118 Senior Advisor to the Assistant Secretary for Western Hemispheric Affairs

DSGS61119 Staff Assistant to the Assistant Secretary for International Organizational Affairs

DSGS61120 Staff Assistant to the Director, Office of International Visitors

DSGS61123 Staff Assistant to the Assistant Secretary for Western Hemispheric Affairs

DSGS61125 Protocol Officer (Visits) to the Chief of Protocol

DSGS61127 Special Assistant to the Assistant Secretary for International Organizational Affairs

DSGS61128 Special Assistant to the Under Secretary for Global Affairs

DSGS61192 Staff Assistant to the Assistant Secretary Bureau of International Narcotics and Law Enforcement Affairs

DSGS61193 Legislative Management Officer to the Assistant Secretary for Legislative and Intergovernmental Affairs

DSGS61194 Director to the Assistant Secretary for Democracy Human Rights and Labor

DSGS61196 Special Assistant to the Under Secretary for Arms Control and Security Affairs

DSGS61198 Director of Communications to the Hiv/Aids Coordinator

DSGS61199 Legislative Management Officer to the Assistant Secretary for Legislative and Intergovernmental Affairs

DSGS61200 Staff Assistant to the Under Secretary for Public Diplomacy and Public Affairs

DSGS61202 Senior Advisor to the Coordinator for International Information Programs

DSGS61205 Protocol Officer (Visits) to the Chief of Protocol

DSGS61207 Special Assistant (Senior Advisor) to the Assistant Secretary for Democracy Human Rights and Labor

DSGS61208 Legislative Management Officer (Staff Director) to the Assistant Secretary for Legislative and Intergovernmental Affairs

DSGS61211 Protocol Officer (Visits) to the Chief of Protocol

DSGS61212 Special Assistant to the Women's Human Rights Coordinator

DSGS61214 Staff Assistant to the Director, Policy Planning Staff

DSGS61217 Public Affairs Specialist to the Assistant Secretary for Public Affairs

DSGS61218 Public Affairs Specialist to the Assistant Secretary for Public Affairs

DSGS61219 Foreign Affairs Officer to the Assistant Secretary

DSGS61221 Senior Advisor to the Assistant Secretary for Economic and Business Affairs

DSGS61222 Special Assistant to the Principal Deputy Assistant Secretary

DSGS61224 Legislative Management Officer to the Assistant Secretary for Legislative and Intergovernmental Affairs

DSGS61231 Special Assistant to the Assistant Secretary for Near Eastern and South Asian Affairs

DSGS61235 Public Affairs Specialist to the Assistant Secretary for Public Affairs

DSGS61236 Special Assistant to the Women's Human Rights Coordinator

DSGS61237 Deputy Chief of Staff to the Secretary of State

DSGS61238 Program Officer to the Assistant Secretary for Public Affairs

DSGS61239 Staff Assistant to the Counselor

DSGS61241 Special Advisor to the Assistant Secretary for Economic and Business Affairs

DSGS61243 Special Assistant to the Director, Policy Planning Staff

DSGS61247 Staff Assistant to the Assistant Secretary for Economic and Business Affairs

DSGS61248 Special Assistant to the Under Secretary for Economic Affairs

DSGS61250 Special Assistant to the Assistant Secretary

DSGS61253 Protocol Officer (Visits) to the Chief of Protocol

DSGS61255 Staff Assistant to the Assistant Secretary for Public Affairs

DSGS61257 Special Assistant to the Legal Adviser

DSGS61259 Public Affairs Specialist to the Principal Deputy Assistant Secretary

DSGS61260 Staff Assistant to the Ambassador-At-Large (War Crimes)

DSGS61262 Legislative Management Officer to the Assistant Secretary for Legislative and Intergovernmental Affairs

DSGS61263 Special Assistant to the Assistant Secretary for Democracy Human Rights and Labor

DSGS61268 Special Assistant to the Under Secretary for Public Diplomacy and Public Affairs

DSGS61269 Protocol Officer (Ceremonials) to the Chief of Protocol

DSGS61270 Public Affairs Specialist to the Assistant Secretary for Public Affairs

DSGS61273 Public Affairs Specialist to the Assistant Secretary for Near Eastern and South Asian Affairs

DSGS61274 Special Assistant to the Chief of Protocol

DSGS61278 Special Assistant to the Deputy Assistant Secretary, Bureau of Near Eastern and South Asian Affairs

DSGS61290 Deputy Assistant Secretary to the Assistant Secretary for Economic and Business Affairs

DSGS61291 Staff Assistant to the Chief Financial Officer

DSGS61292 Foreign Affairs Officer to the Assistant Secretary for International Organizational Affairs

DSGS62176 Foreign Affairs Officer to the Assistant Secretary for International Organizational Affairs

DSGS68234 Foreign Affairs Officer to the Assistant Secretary for Democracy Human Rights and Labor

DSGS69721 Staff Assistant to the Director, Policy Planning Staff

DSGS69722 Senior Advisor to the Assistant Secretary for Democracy Human Rights and Labor

DSGS69726 Protocol Officer to the Foreign Affairs Officer (Visits)

DSGS69727 Special Assistant to the Deputy Assistant Secretary

DSGS69728 Legislative Management Officer to the Deputy Assistant Secretary

DSGS69731 Staff Assistant to the Counselor

DSGS69732 Staff Assistant to the Director, Policy Planning Staff

DSGS69733 Staff Assistant to the Under Secretary for Public Diplomacy and Public Affairs

DSGS69735 Senior Advisor to the Principal Deputy Assistant Secretary for Counterproliferation

DSGS69736 Deputy Director to the Principal Deputy Assistant Secretary

DSGS69738 Public Affairs Specialist (Speechwriter) to the Deputy Assistant Secretary

DSGS69739 Policy Advisor and Chief Speechwriter to the Deputy Director (Principal)

DSGS69740 Special Assistant to the Under Secretary for Global Affairs

DSGS69741 Staff Assistant to the Assistant Secretary, Bureau of Educational and Cultural Affairs

DSGS69742 Office Director to the Principal Deputy Assistant Secretary

DSGS69743 Staff Assistant to the Under Secretary for Arms Control and Security Affairs

DSGS69744 Staff Assistant to the Senior Advisor to the Secretary and White House Liaison

DSGS69745 Special Assistant to the Assistant Secretary for International Organizational Affairs

DSGS69746 Public Affairs Specialist to the Principal Deputy Assistant Secretary

Department of the Treasury

DYGS00230 Public Affairs Specialist to the Director, Public Affairs

DYGS00250 Director, Public Affairs to the Deputy Assistant Secretary (Public Affairs)

DYGS00375 Director of Legislative and Governmental Affairs to the Director of the Mint

DYGS00420 Special Assistant to the Deputy Assistant Secretary for Legislative Affairs (Banking and Finance)

DYGS00424 Senior Advisor to the Assistant Secretary (Economic Policy)

DYGS00430 Senior Advisor to the Assistant Secretary for Financial Markets

DYGS00440 Public Affairs Specialist to the Assistant Secretary (Public Affairs) and Director of Policy Planning

DYGS00441 Director of Outreach to the Deputy Assistant Secretary (Financial Education)

DYGS00447 Senior Advisor to the Under Secretary to the Under Secretary for Terrorism and Financial Crimes

DYGS00453 Media Coordinator to the Assistant Secretary (Public Affairs) and Director of Policy Planning

DYGS00455 Program Coordinator to the Deputy Assistant Secretary (Financial Education)

DYGS00457 Deputy Executive Secretary to the Chief of Staff

DYGS00459 Special Assistant to Director of Legislative and Intergovernmental Affairs to the Director of Legislative and Governmental Affairs

DYGS00460 Senior Advisor and Chief of Staff to the Under Secretary for Terrorism and Financial Crimes

DYGS00461 Senior Advisor to the Assistant Secretary (Tax Policy) to the Assistant Secretary (Tax Policy)

DYGS00464 Special Assistant to the Assistant Secretary (Deputy Under Secretary) for Legislative Affairs

DYGS00465 Special Assistant to the Assistant Secretary (Management) and Chief Financial Officer

DYGS00467 Associate Director to the White House Liaison

DYGS00473 Director of Protocol to the Assistant Secretary (Management) and Chief Financial Officer

DYGS00476 Director of Operations to the Chief of Staff

DYGS00483 Senior Advisor to the Assistant Secretary (Terrorist Financing)

DYGS00484 Executive Secretary Officer to the Executive Secretary

DYGS00488 Executive Assistant to the Special Envoy for China and the Strategic Economic Dialogue

DYGS00489 Operations Coordinator to the Director of Operations

DYGS00490 Special Advisor to the Special Envoy for China and the Strategic Economic Dialogue

DYGS00492 Special Advisor (Legislative Affairs) to the Assistant Secretary (Deputy Under Secretary) for Legislative Affairs

DYGS00494 Special Assistant to the Director of the Mint

DYGS00495 Associate Director of Operations for Advance to the Director of Operations

DYGS00496 Special Advisor for Business Affairs and Public Liaison to the Deputy Assistant Secretary for Business Affairs and Public Liaison

DYGS00498 Deputy Executive Secretary to the Deputy Chief of Staff and Executive Secretary

DYGS00499 Deputy Chief of Staff for External Affairs to the Chief of Staff for External Affairs

DYGS00500 Scheduler to the Treasurer of the United States

DYGS00501 Special Assistant to the Under Secretary for Domestic Finance

DYGS00502 Senior Policy Advisor to the Under Secretary for Domestic Finance

DYGS00503 Senior Advisor to the Director of the Mint

DYGS00844 Public Affairs Specialist to the Deputy Assistant Secretary (Public Affairs)

DYGS60139 Director of Scheduling to the Chief of Staff

DYGS60277 Senior Speechwriter to the Assistant Secretary (Public Affairs) and Director of Policy Planning

DYGS60307 Senior Advisor to the Treasurer of the United States

DYGS60351 Senior Advisor to the Assistant Secretary (Public Affairs) and Director of Policy Planning

DYGS60381 Special Assistant to the Deputy Assistant Secretary for Legislative Affairs (International)

DYGS60390 Senior Advisor to the Assistant Secretary (Management) and Chief Financial Officer

DYGS60391 Deputy Scheduler to the Chief of Staff

DYGS60395 Deputy Executive Secretary to the Executive Secretary

DYGS60396 Senior Advisor to the Deputy Assistant Secretary for Business Affairs and Public Liaison

DYGS60401 Special Assistant to the Chief of Staff

DYGS60404 Senior Advisor to the Assistant Secretary (Financial Institutions)

DYGS60414 Executive Assistant to the Deputy Secretary of the Treasury

Department of Defense

DDGS00714 Special Assistant to the Under Secretary of Defense (Policy) to the Under Secretary of Defense for Policy

DDGS00779 Staff Assistant to the Principal Deputy Assistant Secretary of Defense (International Security Affairs)

DDGS16660 Director of Assessments to the Deputy Under Secretary of Defense (International Technology Security)

DDGS16692 Confidential Assistant to the Secretary of Defense

DDGS16709 Defense Fellow to the Special Assistant to the Secretary of Defense for White House Liaison

DDGS16811 Special Assistant to the Director, Small Business Programs

DDGS16874 Confidential Assistant to the Assistant Secretary of Defense (Reserve Affairs) to the Assistant Secretary of Defense (Reserve Affairs)

DDGS16890 Special Assistant, Dusd (Budget and Appropriations Affairs) to the Deputy Under Secretary of Defense (Resource Planning/Management)

DDGS16908 Civilian Executive Assistant to the Special Assistant to the Secretary of Defense for White House Liaison

DDGS16909 Staff Assistant to the Special Assistant to the Secretary of Defense for White House Liaison

DDGS16914 Personal and Confidential Assistant to the Deputy Secretary of Defense

DDGS16918 Staff Assistant to the Deputy Assistant Secretary of Defense (Negotiations Policy)

DDGS16945 Defense Fellow to the Special Assistant to the Secretary of Defense for White House Liaison

DDGS16962 Speechwriter to the Principal Deputy Assistant Secretary of Defense for Public Affairs

DDGS16988 Executive Assistant to the Director, Operational Test and Evaluation

DDGS17001 Speechwriter to the Assistant Secretary of Defense Public Affairs

DDGS17002 Confidential Assistant to the Under Secretary of Defense Personnel and Readiness to the Under Secretary of Defense (Personnel and Readiness)

DDGS17010 Public Affairs Specialist to the Assistant Secretary of Defense Public Affairs

DDGS17012 Public Affairs Specialist to the Assistant Secretary of Defense Public Affairs

DDGS17015 Staff Assistant to the Deputy Assistant Secretary of Defense (Detainee Affairs)

DDGS17016 Defense Fellow to the Special Assistant to the Secretary of Defense for White House Liaison

DDGS17017 Defense Fellow to the Special Assistant to the Secretary of Defense for White House Liaison

DDGS17023 Public Affairs Specialist to the Assistant Secretary of Defense Public Affairs

DDGS17025 Staff Specialist to the Under Secretary of Defense (Acquisition, Technology, and Logistics)

DDGS17029 Administrative Assistant to the Special Assistant to the Secretary of Defense for White House Liaison

DDGS17030 Staff Assistant to the Deputy Assistant Secretary of Defense (North Atlantic Treaty Organization and Europe)

DDGS17031 Special Assistant to the Deputy Under Secretary of Defense (Asian and Pacific Security Affairs) to the Deputy Under Secretary of Defense (Asian and Pacific Security Affairs)

DDGS17032 Special Assistant to the Assistant Secretary of Defense (Legislative Affairs)

DDGS17033 New Media Development Account Assistant to the Assistant Secretary of Defense Public Affairs

DDGS17034 Administrative Assistant to the Director, Department of Defense Office of Legislative Counsel

DDGS17039 Confidential Assistant to the Secretary of Defense to the Secretary of Defense

DDGS17041 Special Assistant to the Assistant Secretary of Defense (Legislative Affairs)

DDGS17043 Special Assistant to the Under Secretary of Defense (Comptroller)

DDGS17045 Staff Assistant to the Deputy Assistant Secretary of Defense (Counternarcotics, Counterproliferation and Global Threats)

DDGS17046 Public Affairs Analyst to the Assistant Secretary of Defense Public Affairs

DDGS17049 Confidential Assistant to the Deputy Under Secretary of Defense (Acquisition and Technology)

DDGS17050 Advisor to the Special Assistant to the Secretary and Deputy Secretary of Defense to the Special Assistant to the Secretary and Deputy Secretary of Defense

DDGS17051 Defense Fellow to the Special Assistant to the Secretary of Defense for White House Liaison

DDGS17052 Confidential Assistant to the Director of Defense Research and Engineering

DDGS17056 Defense Fellow to the Special Assistant to the Secretary of Defense for White House Liaison

DDGS17062 Special Assistant to the Director, Department of Defense Office of Legislative Counsel

DDGS17064 Protocol Specialist to the Special Assistant to the Secretary of Defense for Protocol

DDGS17067 Special Assistant to the Assistant Secretary of Defense (Special Operations/Low Intensity Conflict and Interdependent Capabilities)

DDGS17070 Defense Fellow to the Special Assistant to the Secretary of Defense for White House Liaison

DDGS17071 Special Assistant to the Assistant Secretary of Defense (Legislative Affairs)

DDGS17074 Congressional Inquiries Assistant to the Assistant Secretary of Defense (Legislative Affairs)

DDGS17078 Defense Fellow to the Special Assistant to the Secretary of Defense for White House Liaison

DDGS17079 Special Assistant to the Assistant Secretary of Defense (International Security Affairs)

DDGS17080 Staff Assistant to the Principal Deputy Under Secretary of Defense (Personnel and Readiness) to the Principal Deputy Under Secretary of Defense (Personnel and Readiness)

DDGS17081 Defense Fellow to the Special Assistant to the Secretary of Defense for White House Liaison

DDGS17082 Special Assistant to the Special Assistant to the Secretary of Defense for White House Liaison

DDGS17083 Confidential Assistant to the Special Assistant to the Secretary and Deputy Secretary of Defense

DDGS17086 Supervisory Speechwriter to the Assistant Secretary of Defense Public Affairs

DDGS17089 Public Affairs Specialist to the Assistant Secretary of Defense Public Affairs

DDGS17091 Staff Assistant to the Principal Deputy Assistant Secretary of Defense (Asian and Pacific Security Affairs)

DDGS17092 Supervisory Staff Assistant to the Deputy Assistant Secretary of Defense (Near East and South Asian Affairs)

DDGS17093 Staff Assistant to the Deputy Assistant Secretary of Defense (Near East and South Asian Affairs)

DDGS17095 Staff Assistant for Correspondence to the Special Assistant to the Secretary and Deputy Secretary of Defense

DDGS17097 Staff Assistant to the Principal Deputy Under Secretary of Defense for Policy

DDGS17098 Defense Fellow to the Special Assistant to the Secretary of Defense for White House Liaison

DDGS17099 Public Affairs Specialist to the Assistant Secretary of Defense Public Affairs

DDGS17100 Public Affairs Specialist to the Assistant Secretary of Defense Public Affairs

DDGS17101 Public Affairs Specialist to the Assistant Secretary of Defense Public Affairs

DDGS17103 Public Affairs Specialist to the Assistant Secretary of Defense Public Affairs

DDGS17105 Public Affairs Specialist to the Assistant Secretary of Defense Public Affairs

DDGS17107 Special Assistant to the Assistant Secretary of Defense (Legislative Affairs)

DDGS17108 Staff Assistant to the Principal Deputy Assistant Secretary of Defense (Asian and Pacific Security Affairs)

DDGS17109 Defense Fellow to the Special Assistant to the Secretary of Defense for White House Liaison

DDGS17113 Staff Assistant to the Deputy Assistant Secretary of Defense (Western Hemisphere Affairs)

DDGS17117 Special Assistant to the Assistant Secretary of Defense (Legislative Affairs)

DDGS17118 Defense Fellow to the Special Assistant to the Secretary of Defense for White House Liaison

DDGS17119 Special Assistant to the Under Secretary of Defense (Intelligence) to the Under Secretary of Defense (Intelligence)

DDGS17120 Special Assistant to the Assistant Secretary of Defense Health Affairs to the Assistant Secretary of Defense (Health Affairs)

DDGS17121 Staff Assistant to the Deputy Assistant Secretary of Defense (Middle East)

DDGS17122 Public Affairs Specialist to the Assistant Secretary of Defense Public Affairs

DDGS17123 Special Assistant to the Deputy Executive Secretary for Legislative Affairs

DDGS17124 Special Events Coordinator to the Assistant Secretary of Defense Public Affairs

DDGS17127 Special Assistant to the Deputy General Counsel Legal Counsel

DDGS17128 Staff Assistant to the Assistant Secretary of Defense (International Security Affairs)

DDGS17131 Special Assistant to the Assistant Secretary of Defense (Special Operations/Low Intensity Conflict and Interdependent Capabilities)

DDGS17134 Special Assistant to the Assistant Secretary of Defense (Legislative Affairs)

DDGS17136 Special Assistant to the Assistant Secretary of Defense (Special Operations/Low Intensity Conflict and Interdependent Capabilities)

DDGS17137 Special Assistant to the Assistant Secretary of Defense (Legislative Affairs)

DDGS17138 Special Assistant to the Principal Deputy Assistant Secretary of Defense (Asian and Pacific Security Affairs)

DDGS17139 Special Assistant to the Assistant Secretary of Defense (Legislative Affairs)

DDGS17140 Public Affairs Analyst to the Public Affairs Specialist

DDGS17141 Special Assistant for Research to the Supervisory Speechwriter

DDGS17142 Defense Fellow to the Special Assistant to the Secretary of Defense for White House Liaison

DDGS17143 Defense Fellow to the Special Assistant to the Secretary of Defense for White House Liaison

DDGS17144 Personal and Confidential Assistant to the Under Secretary of Defense (Comptroller)

DDGS17146 Special Assistant to the Assistant Secretary of Defense (Legislative Affairs)

DDGS17147 Special Assistant to the Principal Deputy Assistant Secretary of Defense (Global Security Affairs)

DDGS17150 Special Assistant to the Special Assistant to the Secretary and Deputy Secretary of Defense

DDGS17151 Special Assistant to the Secretary of Defense for Protocol to the Secretary of Defense

DDGS17152 Executive Assistant to the Special Assistant to the Secretary of Defense for White House Liaison

DDGS17153 Staff Assistant to the Special Assistant to the Secretary of Defense for White House Liaison

DDGS17154 Special Assistant to the Director, Department of Defense Office of Legislative Counsel

DDGS17155 Defense Fellow to the Special Assistant to the Secretary of Defense for White House Liaison

DDGS17157 Special Assistant to the Deputy Under Secretary of Defense (Budget and Appropriations Affairs)

DDGS17158 Special Assistant to the Director, Department of Defense Office of Legislative Counsel

DDGS17159 Special Assistant to the Assistant Secretary of Defense (Legislative Affairs) to the Assistant Secretary of Defense (Legislative Affairs)

DDGS17160 Special Assistant/Senior Advisor to the Under Secretary of Defense (Comptroller) to the Under Secretary of Defense (Comptroller)

DDGS17161 Personal and Confidential Assistant to the Principal Deputy Assistant Secretary of Defense for Public Affairs

DDGS17163 Speechwriter for the Deputy Secretary of Defense to the Special Assistant to the Deputy Secretary of Defense

DDGS60312 Director, Cooperative Threat Reduction to the Assistant Secretary of Defense (Global Security Affairs)

DDGS60314 Coordinator of Reserve Integration to the Principal Deputy Assistant Secretary of Defense (Reserve Affairs)

DDGS60319 Confidential Assistant to the Deputy Secretary of Defense

DDGS60369 Executive Assistant to the Director of Force Transformation

DDGS60454 Special Assistant to the Director of Net Assessment

DDGS60475 Staff Assistant to the Deputy Assistant Secretary of Defense (Forces Policy)

DDGS60520 Special Assistant to the Deputy Assistant Secretary of Defense (Prisoners of War/Military Police) Director, Prisoners of War Missing Persons Office

Department of the Army

DWGS00065 Special Assistant to the Deputy Assistant Secretary of the Army for Privatization and Partnerships to the Deputy Assistant Secretary of the Army for Privatization and Partnerships

DWGS00077 Confidential Assistant to the Assistant Secretary of the Army (Civil Works) to the Assistant Secretary of the Army (Civil Works)

DWGS00090 Special Assistant to the General Counsel to the General Counsel

DWGS00092 Special Assistant to the General Counsel to the General Counsel

DWGS00095 Personal and Confidential Assistant (Installations and Environment) to the Assistant Secretary of the Army (Installations and Environment)

DWGS00096 Personal and Confidential Assistant to the Deputy Under Secretary of the Army to the Deputy Under Secretary of the Army

DWGS60002 Special Assistant to the Secretary of the Army

DWGS60019 Business Transformation Initiatives Analyst to the Special Assistant to the Secretary of the Army for Business Transformation Initiatives

DWGS60024 Personal and Confidential Assistant to the Under Secretary of the Army

DWGS60028 Personal and Confidential Assistant to the Assistant Secretary of the Army (Installations and Environment)

DWGS60029 Special Assistant to the Army General Counsel to the General Counsel

DWGS60032 Special Assistant to the Deputy Assistant Sec of the Army (Environment, Safety and Occupational Health) to the General Counsel

DWGS60064 Personal and Confidential Assistant to the Principal Deputy Assistant Secretary of the Army (Manpower and Reserve Affairs)/Deputy Assistant Secretary (Training, Readiness and Mobilization)

DWGS60076 Special Assistant to the Assistant Secretary of the Army (Civil Works) to the Assistant Secretary of the Army (Civil Works)

DWGS60086 Special Assistant to the General Counsel to the General Counsel

Department of the Navy

DNGS07166 Residence Manager and Social Secretary to the Vice President to the Secretary of the Navy

DNGS07300 Confidential Assistant to the Assistant Secretary of the Navy (Manpower and Reserve Affairs)

DNGS07343 Special Assistant to the Secretary of the Navy

DNGS07355 Director for Strategic Initiatives to the Special Assistant to the Secretary

DNGS07368 Staff Assistant to the Special Assistant to the Secretary

DNGS08115 Staff Assistant (Policy) to the Deputy Under Secretary of the Navy

DNGS08116 Staff Assistant (Policy) to the Deputy Under Secretary of the Navy

DNGS08166 Staff Assistant to the Deputy Under Secretary of the Navy

Department of the Air Force

DFGS00010 Secretary to the Assistant Secretary (Financial Management and Comptroller)

DFGS00011 Director for Strategic Initiatives to the Assistant Secretary (Financial Management and Comptroller)

DFGS07001 Special Assistant to the Assistant Secretary of the Air Force (Acquisition) for Industrial Relations to the Assistant Secretary of the Air Force (Acquisition)

DFGS60013 Special Counsel and Special Assistant to the General Counsel

DFGS60016 Special Counsel and Special Assistant to the General Counsel

DFGS60047 Financial Management Specialist to the Assistant Secretary (Financial Management and Comptroller)

Department of Justice

DJGS00028 Director of Congressional Affairs to the Administrator, Drug Enforcement Administration

DJGS00033 Counsel to the Assistant Attorney General to the Assistant Attorney General

DJGS00048 Congressional Liaison Specialist to the Administrator, Drug Enforcement Administration

DJGS00064 Principal Deputy Director to the Associate Attorney General

DJGS00067 Chief of Staff to the Assistant Attorney General, Office of Justice Programs

DJGS00069 Confidential Assistant to the Director, Office of Public Affairs

DJGS00071 Press Assistant to the Deputy Director

DJGS00072 Senior Advisor to the Director, Office of Public Affairs

DJGS00073 Senior Legal Counsel to the Director, Office of Faith-Based and Community Initiatives

DJGS00076 Public Affairs Specialist to the United States Attorney, Texas, Western District

DJGS00081 Special Assistant to the Chairman to the Chairman

DJGS00082 Special Assistant to the Assistant Attorney General Environment and Natural Resources

DJGS00084 Senior Counsel to the Assistant Attorney General Environment and Natural Resources

DJGS00085 Speech Writer to the Director, Office of Public Affairs

DJGS00086 Senior Press Assistant to the Director, Office of Public Affairs

DJGS00087 Senior Policy Advisor to the Director of the Violence Against Women Office

DJGS00088 Deputy Director Scheduling to the Attorney General

DJGS00089 Senior Advisor to the Associate Attorney General

DJGS00090 Chief of Staff and Counsel to the Assistant Attorney General to the Assistant Attorney General

DJGS00091 Staff Assistant to the Assistant Attorney General (Legislative Affairs)

DJGS00093 Deputy White House Liaison to the White House Liaison

DJGS00094 Counsel to the Assistant Attorney General

DJGS00095 Confidential Assistant to the Director, Bureau of Alcohol, Tobacco, Firearms, and Explosives

DJGS00100 Deputy Director to the Director, Office of Public Affairs

DJGS00102 Counsel to the Assistant Attorney General

DJGS00103 Counsel to the Associate Attorney General

DJGS00106 Special Assistant and Media Affairs Coordinator to the Assistant Attorney General

DJGS00109 Associate Director to the Director

DJGS00110 Senior Counsel to the Director, Office of Public Affairs

DJGS00117 Deputy Director, Office of Faith-Based and Community Initiatives to the Director, Office of Faith-Based and Community Initiatives

DJGS00118 Special Assistant to the Director

DJGS00125 Special Assistant to the Assistant Attorney General

DJGS00130 Counsel to the Assistant Attorney General to the Assistant Attorney General

DJGS00136 Senior Policy Advisor to the Director of the Violence Against Women Office

DJGS00145 Executive Assistant to the Solicitor General to the Solicitor General

DJGS00159 Senior Counsel to the Assistant Attorney General (Legal Policy)

DJGS00160 Confidential Assistant to the Assistant Attorney General (Legislative Affairs)

DJGS00161 Counselor to the Assistant Attorney General to the Assistant Attorney General (Legal Policy)

DJGS00162 Counsel to the Assistant Attorney General

DJGS00177 Counsel to the Associate Attorney General

DJGS00179 Counsel to the Principal Deputy Assistant Attorney General

DJGS00185 Senior Counsel to the Deputy Attorney General to the Deputy Attorney General

DJGS00196 Special Assistant to the Chief of Staff

DJGS00201 Counselor to the Assistant Attorney General to the Assistant Attorney General Criminal Division

DJGS00203 Counsel to the Assistant Attorney General Criminal Division

DJGS00204 Senior Counsel to the Deputy Attorney General

DJGS00226 Senior Advisor to the Director of Justice Assistance to the Director, Bureau of Justice Assistance

DJGS00252 Director of Scheduling and Advance to the Attorney General

DJGS00284 Research Assistant to the Deputy Director

DJGS00289 Counsel to the Chief of Staff

DJGS00292 Deputy Privacy and Civil Liberties Officer to the Chief of Staff

DJGS00295 Special Assistant to the United States Attorney, Massachusetts

DJGS00297 Counsel to the Assistant Attorney General (Civil Rights) to the Assistant Attorney General

DJGS00311 Counsel to the Principal Associate Deputy Attorney General

DJGS00318 Press Assistant to the Director, Office of Public Affairs

DJGS00323 Counsel to the Principal Deputy Assistant Attorney General

DJGS00332 Counsel to the Assistant Attorney General to the Assistant Attorney General

DJGS00339 Special Assistant to the Attorney General to the Attorney General

DJGS00344 Counsel to the Chief of Staff

DJGS00365 Special Assistant to the Attorney General to the Chief of Staff

DJGS00398 Media Affairs Specialist to the Director, Office of Public Affairs

DJGS00410 Senior Advisor to the Assistant Attorney General to the Assistant Attorney General, Office of Justice Programs

DJGS00413 Executive Assistant to the United States Attorney

DJGS00440 Confidential Assistant to the Assistant Attorney General Tax Division

DJGS60023 Special Assistant for International Protocol to the Director, Office of International Affairs

DJGS60173 Secretary (Office Automation) to the United States Attorney, Oklahoma, Northern District

DJGS60418 Secretary (Office Automation) to the United States Attorney, Nebraska

DJGS60420 Secretary (Office Automation) to the United States Attorney, Pennsylvania, Eastern District

DJGS60427 Secretary (Office Automation) to the United States Attorney, New Hampshire

DJGS60436 Secretary (Office Automation) to the United States Attorney, Alabama, Southern District

DJGS60437 Secretary (Office Automation) to the United States Attorney, Delaware

Department of Homeland Security

DMGS00051 Business Analyst to the Special Assistant

DMGS00151 Business Liaison to the Special Assistant

DMGS00259 Counter Narcotics Liaison to the Counter Narcotics Officer

DMGS00349 Senior Advisor to the Assistant Secretary for Infrastructure Protection to the Deputy Under Secretary, Mission Integration

DMGS00395 Senior Advisor to the Chief Medical Officer to the Chief Medical Officer

DMGS00413 Senior Legislative Policy Advisor to the Deputy Assistant Secretary for Border and Transportation Security Policy

DMGS00415 Public Affairs Specialist to the Assistant Commissioner for Public Affairs

DMGS00428 Advisor to the Chief of Staff to the Chief of Staff

DMGS00437 Advisor to the Director to the Deputy Director, Citizenship and Immigration Services

DMGS00449 Director of Legislative Affairs, Federal Emergency Management Agency to the Under Secretary for Federal Emergency Management

DMGS00454 Special Advisor for Refugee and Asylum Affairs to the Assistant Secretary for Policy

DMGS00458 Associate Executive Secretary for Internal Coordination to the Executive Secretary

DMGS00479 Advisor to the Executive Director of Operations and Administration to the Executive Director for Operations and Administration

DMGS00497 Executive Director to the Assistant Secretary, Office of State and Local Law Enforcement

DMGS00515 Assistant Director of Legislative Affairs for Miscellaneous Offices to the Assistant Secretary for Legislative Affairs

DMGS00516 Confidential Assistant to the Executive Director for Operations and Administration

DMGS00523 Special Assistant to the Assistant Secretary, Immigration and Customs Enforcement

DMGS00541 Director/Executive Secretariat, Private Sector Advisory Committee to the Executive Director, Homeland Security Advisory Committees

MGS00553 Director of Policy and Plans, Customs and Border Protection to the Commissioner, United States Customs and Border Protection

DMGS00556 Deputy Chief of Staff to the Director of Information Integration and Special Assistant to the Secretary

DMGS00577 Deputy Director of the Center for Faith Based and Community Initiatives to the Director of Faith Based and Community Initiatives

DMGS00586 Counselor to the Administrator and Deputy Administrator to the Administrator for Federal Emergency Management Agency

DMGS00589 Senior Advisor to the Under Secretary for Science and Technology to the Under Secretary for Science and Technology

DMGS00591 Senior Liaison Officer to the Executive Secretary

DMGS00593 Director of Scheduling and Advance to the Chief of Staff

DMGS00600 Confidential Assistant to the Under Secretary for Protocol and Advance Briefings to the Under Secretary for Science and Technology

DMGS00604 Special Assistant to the Secretary for Stakeholder Affairs and Information Integration to the Chief of Staff

DMGS00606 Component Liaison Officer to the Executive Director for Operations and Administration

DMGS00607 Business Liaison to the Assistant Secretary for Private Sector

DMGS00609 Associate Director of White House Actions and Policy Coordinating Committee Coordinator to the Executive Secretary

DMGS00613 Speechwriter to the Secretary to the Director of Speechwriting

DMGS00617 Director of Legislative Affairs for Policy to the Assistant Secretary for Legislative Affairs

DMGS00622 Associate Director of Communications and Speechwriter to the Director of Communications

DMGS00623 Associate Director of Strategic Communications for Outreach to the Director of Strategic Communications

DMGS00627 Counselor to the Director to the Director, Office of Counternarcotics Enforcement

DMGS00631 Advisor to the Administrator and Deputy Administrator to the Administrator for Federal Emergency Management Agency

DMGS00638 Special Assistant and Travel Aide to the Administrator for Federal Emergency Management Agency

DMGS00639 Advisor to the Under Secretary for Management to the Chief Human Capital Officer

DMGS00641 Policy Advisor to the Assistant Secretary and Chief Medical Officer to the Assistant Secretary for Health Affairs and Chief Medical Officer

DMGS00642 Special Assistant to the Chief of Staff

DMGS00643 Supervisory Management and Program Analyst to the Executive Director for Operations and Administration

DMGS00646 Assistant Press Secretary to the Deputy Assistant Secretary for Public Affairs

DMGS00650 Special Assistant to the Assistant Secretary, Immigration and Customs Enforcement

DMGS00651 Press Assistant to the Press Secretary

DMGS00652 Director, Ready Campaign to the Assistant Secretary for Public Affairs

DMGS00655 Coordinator for Local Affairs to the Director, Office of State and Local Government Coordination

DMGS00656 Director of Speechwriting to the Assistant Secretary for Public Affairs

DMGS00660 Director of Communications, Immigration and Customs Enforcement to the Assistant Secretary, Immigration and Customs Enforcement

DMGS00661 Advisor to the Chief of Staff

DMGS00662 Special Assistant to the Assistant Secretary, Immigration and Customs Enforcement

DMGS00663 Director, Transition and Transformation to the Director of Policy and Program Analysis

DMGS00664 Advance Representative to the Director of Scheduling and Advance

DMGS00668 Program Director to the Assistant Secretary for Intergovernmental Programs

DMGS00669 Director of Legislative Affairs for Intelligence and Operations to the Assistant Secretary for Legislative Affairs

DMGS00671 Coordinator for State and Local Affairs to the Assistant Secretary for Intergovernmental Programs

DMGS00672 Confidential Assistant to the Secretary to the Chief of Staff

DMGS00674 Special Assistant, Office of International Affairs to the Assistant Secretary for International Affairs

DMGS00678 Advisor to the Director for Congressional and Intergovernmental Affairs to the Director, United States Citizenship and Immigration Services

DMGS00680 Advisor to the Director for Policy to the Director, Domestic Nuclear Detection Office

DMGS00682 Special Assistant to the Executive Secretary

DMGS00683 Deputy Director of Scheduling and Protocol Coordinator to the Director of Scheduling and Advance

DMGS00686 Assistant Director to the Assistant Secretary for Legislative Affairs

DMGS00687 Director of Faith Based and Community Initiatives to the Under Secretary for National Protection and Programs

DMGS00689 Advance Representative to the Director of Scheduling and Advance

DMGS00691 Governor and Homeland Security Advisor Coordinator to the Assistant Secretary for Intergovernmental Programs

DMGS00692 Director of Legislative Affairs, Immigration and Customs Enforcement to the Assistant Secretary, Immigration and Customs Enforcement

DMGS00693 Special Assistant to the Under Secretary for Intelligence and Analysis to the Under Secretary for Intelligence and Analysis

DMGS00695 Confidential Legal Assistant to the General Counsel

DMGS00696 Assistant Director of Legislative Affairs to the Assistant Secretary for Legislative Affairs

DMGS00697 Special Assistant to the Director to the Deputy Assistant Secretary for Screening

DMGS00698 Associate Director of Strategic Communications to the Director of Strategic Communications

DMGS00702 Special Assistant to the Under Secretary for Intelligence and Analysis

DMGS00703 Advisor to the Director to the Deputy Chief of Staff

DMGS00706 Confidential Assistant to the White House Liaison

DMGS00707 Special Assistant to the Director, Office of National Capital Region Coordination

DMGS00708 Advisor to the Assistant Secretary for Infrastructure Protection

DMGS00709 Special Assistant to the Commissioner to the Chief of Staff

DMGS00710 International Policy Analyst to the Under Secretary for Science and Technology

DMGS00713 Special Assistant to the Assistant Secretary for Policy

DMGS00714 Special Assistant to the Secretary to the Chief of Staff

DMGS00717 Special Assistant to the Assistant Secretary for Private Sector

DMGS00718 Senior Advisor to the Director, United States Citizenship and Immigration Services

DMGS00719 Confidential Assistant to the White House Liaison

DMGS00720 Confidential Assistant to the Chief of Staff

DMGS00722 Advisor to the Executive Officer

DMGS00724 Executive Director, Homeland Security Advisory Committees to the Assistant Secretary for Policy

DMGS00726 Chief of Staff to the Assistant Secretary for Policy

DMGS00727 Advisor to the Chief of Staff to the Chief of Staff

DMGS00728 Press Secretary to the Assistant Secretary for Public Affairs

DMGS00729 Special Assistant to the Chief Privacy Officer to the Chief Privacy Officer

DMGS00731 Special Assistant to the Under Secretary for Intelligence and Analysis to the Under Secretary for Intelligence and Analysis

DMGS00735 Director of Special Projects and Protocol to the Assistant Secretary for Public Affairs

DMGS00736 Director of Strategic Communications to the Deputy Assistant Secretary for Public Affairs

DMGS00737 Confidential Assistant to the Chief of Staff to the Coordinator

DMGS00738 Deputy Director of Advance and Travel to the Director of Scheduling and Advance

DMGS00742 Deputy Secretary Briefing Book Coordinator to the Executive Director for Operations and Administration

DMGS00745 Confidential Assistant to the Deputy Assistant Secretary to the Coordinator of Recovery and Rebuilding In the Gulf Coast Region

DMGS00746 Staff Assistant to the White House Liaison

DMGS00747 Policy Advisor to the Deputy Administrator to the Deputy Administrator, Federal Emergency Management Agency

DMGS00748 Confidential Assistant to the Director, United States Citizenship and Immigration Services

DMGS00749 Confidential Assistant to the Counselors to the Counselor to the Secretary

DMGS00751 Public Affairs and Press Assistant to the Assistant Secretary for Public Affairs

DMOT00679 Special Assistant to the Assistant Secretary to the Assistant Secretary, Transportation Security Administration

Department of the Interior

DIGS00115 Special Assistant (Communications and Legislation) to the Deputy Commissioner (Director of External and Intergovernmental Affairs)

DIGS01059 Special Assistant—Historic Preservation to the Chief of Staff

DIGS01068 Special Assistant to the Secretary for Alaska to the Senior Adviser to the Secretary for Alaskan Affairs

DIGS01088 Special Assistant to the Solicitor

DIGS01089 Special Assistant to the Deputy Chief of Staff

DIGS01090 Special Assistant (Scheduling and Advance) to the Director—Scheduling and Advance

DIGS01091 Special Assistant—Scheduling and Advance to the Director—Scheduling and Advance

DIGS01093 White House Liaison to the Chief of Staff

DIGS01104 Special Assistant for Alaskan Affairs to the Senior Adviser to the Secretary for Alaskan Affairs

DIGS01107 Special Assistant to the Chief of Staff

DIGS01108 Special Assistant for Public Affairs to the Director, Take Pride in America

DIGS01110 Chief of Staff to the Director Minerals Management Service

DIGS01111 Associate Director—External and Intergovernmental Affairs to the Director, External and Intergovernmental Affairs

DIGS01114 Chief of Staff to the Assistant Secretary for Fish and Wildlife and Parks

DIGS01115 Associate Director—External and Intergovernmental Affairs to the Director, External and Intergovernmental Affairs

DIGS01116 Special Assistant to the Director, External and Intergovernmental Affairs

DIGS01117 Director of Scheduling and Advance to the Chief of Staff

DIGS01118 Special Assistant—Scheduling and Advance to the Director—Scheduling and Advance

DIGS01119 Special Assistant—Fish and Wildlife and Parks to the Special Assistant

DIGS01120 Special Assistant to the Director—Scheduling and Advance

DIGS01122 Special Assistant to the White House Liaison

DIGS01123 Science Advisor to the Assistant Secretary for Water and Science

DIGS01124 Media Relations Specialist to the Director, Office of Communications

DIGS01125 Senior Advisor to the Chief of Staff

DIGS01126 Senior Counsel and Special Assistant to the Solicitor to the Deputy Solicitor

DIGS01127 Deputy Director, Office of Communications to the Director, Office of Communications

DIGS05003 Special Assistant to the Deputy Director

DIGS07001 Special Assistant to the Director Bureau of Land Management

DIGS60025 Special Assistant to the Secretary

DIGS60134 Chief, Congressional and Legislative Affairs Office to the Deputy Commissioner (Director of External and Intergovernmental Affairs)

DIGS60525 Special Assistant to the Assistant Secretary—Land and Minerals Management

DIGS61027 Special Assistant to the Associate Deputy Secretary

DIGS61035 Special Assistant to the Director to the Director Office of Surface Mining Reclamation and Enforcement

DIGS70005 Assistant Director, Legislative and Congressional Affairs to the Director National Park Service

DIGS70007 Special Assistant to the Director to the Director National Park Service

DIGS79100 Special Assistant to the Director, United States Fish and Wildlife Service

Department of Agriculture

DAGS00164 Director of Web Design to the Deputy Chief of Staff

DAGS00200 Special Assistant to the Secretary

DAGS00609 Special Assistant to the Associate Assistant Secretary for Civil Rights

DAGS00611 Special Assistant to the Administrator, Food and Nutrition Service

DAGS00728 Confidential Assistant to the Under Secretary for Rural Development

DAGS00731 Special Assistant to the Chief to the Chief, Natural Resources Conservation Service

DAGS00739 Confidential Assistant to the Administrator for Risk Management

DAGS00741 Special Assistant to the Administrator

DAGS00768 Special Assistant to the Administrator

DAGS00773 Special Assistant to the Secretary

DAGS00785 Special Assistant to the Administrator to the Under Secretary for Marketing and Regulatory Programs

DAGS00787 Director of Advance to the Director of Communications

DAGS00789 Staff Assistant to the Secretary

DAGS00798 Confidential Assistant to the Administrator, Rural Housing Service

DAGS00801 Confidential Assistant to the Secretary

DAGS00807 White House Liaison to the Secretary

DAGS00822 Special Assistant to the Associate Administrator, Programs

DAGS00826 Confidential Assistant to the Administrator to the Administrator, Agricultural Marketing Service

DAGS00830 Chief of Staff to the Administrator

DAGS00836 Speech Writer to the Director of Communications

DAGS00837 Confidential Assistant to the Under Secretary for Rural Development

DAGS00842 Special Assistant to the Deputy Assistant Secretary for Administration

DAGS00843 Confidential Assistant to the Chief Financial Officer

DAGS00846 Deputy Director of Communications to the Director of Communications

DAGS00847 Confidential Assistant to the Associate Administrator

DAGS00850 Special Assistant to the Under Secretary for Rural Development

DAGS00851 Special Assistant to the Under Secretary for Research, Education and Economics

DAGS00854 Confidential Assistant to the Assistant Secretary for Congressional Relations

DAGS00855 Special Assistant to the Deputy Administrator for Field Operations

DAGS00858 Confidential Assistant to the Administrator, Farm Service Agency

DAGS00861 Director, Office of Faith-Based and Community Initiatives to the Chief of Staff

DAGS00862 Confidential Assistant to the Assistant Secretary for Congressional Relations

DAGS00864 Confidential Assistant to the Administrator, Rural Housing Service

DAGS00868 Confidential Assistant to the Administrator, Rural Housing Service

DAGS00869 Press Secretary to the Director of Communications

DAGS00874 Director of Speechwriting to the Director of Communications

DAGS00875 Confidential Assistant to the Assistant Secretary for Congressional Relations

DAGS00877 Confidential Assistant to the Deputy Assistant Secretary

DAGS00879 Confidential Assistant to the Deputy Under Secretary for Marketing and Regulatory Programs

DAGS00889 Senior Counselor to the General Counsel

DAGS00891 Staff Director to the Assistant Secretary for Congressional Relations

DAGS00892 Confidential Assistant to the Chief, Natural Resources Conservation Service

DAGS00897 Deputy Director of Intergovernmental Affairs to the Assistant Secretary for

Congressional Relations

DAGS00899 Staff Assistant to the Under Secretary for Natural Resources and Environment

DAGS00900 Special Assistant to the Administrator, Foreign Agricultural Service

DAGS00902 Deputy White House Liaison to the Secretary

DAGS00904 Director of Legislative Affairs to the Administrator, Foreign Agricultural Service

DAGS00905 Special Assistant to the Administrator to the Under Secretary for Marketing and Regulatory Programs

DAGS00906 Assistant Press Secretary to the Director of Communications

DAGS00907 Confidential Assistant to the Administrator

DAGS00908 Confidential Assistant to the Under Secretary for Natural Resources and Environment

DAGS00909 Special Assistant to the Administrator

DAGS00910 Director of Legislative and Public Affairs to the Deputy Under Secretary for Rural Development

DAGS00912 Confidential Assistant to the Under Secretary for Food Safety

DAGS00916 Deputy Director of Advance to the Director of Communications

DAGS00918 Confidential Assistant to the Director of Legislative and Public Affairs

DAGS00919 Special Assistant to the Administrator, Food and Nutrition Service

DAGS00921 Confidential Assistant to the Assistant Secretary for Congressional Relations

DAGS00923 Associate Administrator, Special Nutrition Programs to the Administrator, Food and Nutrition Service

DAGS00924 Staff Assistant to the Administrator for Risk Management

DAGS00925 Senior Advisor to the Under Secretary to the Under Secretary for Farm and Foreign Agricultural Services

DAGS00926 Deputy Chief of Staff to the Chief of Staff

DAGS00928 Director of External Affairs to the Administrator, Farm Service Agency

DAGS00930 Senior Advisor to the Under Secretary to the Under Secretary for Farm and Foreign Agricultural Services

DAGS00931 Confidential Assistant to the Deputy Under Secretary, Research, Education and Economics

DAGS00932 Special Assistant to the Administrator, Rural Housing Service

DAGS00933 Confidential Assistant to the Chief of Staff

DAGS00934 Director of Native American Programs to the Assistant Secretary for Congressional Relations

DAGS00936 Special Assistant to the Administrator, Rural Housing Service

DAGS00937 Chief of Staff to the Chief, Natural Resources Conservation Service

DAGS00938 Director of Communications and Governmental Affairs to the Administrator, Food and Nutrition Service

DAGS00939 Staff Assistant to the Director of External Affairs

DAGS00940 Special Assistant to the Administrator

DAGS00941 Press Assistant to the Director of Communications

DAGS00942 Staff Assistant to the Assistant Secretary for Congressional Relations

DAGS60114 Confidential Assistant to the Deputy Secretary

DAGS60129 Special Assistant to the Administrator for Risk Management

DAGS60135 Confidential Assistant to the Administrator, Foreign Agricultural Service

DAGS60263 Special Assistant to the Chief, Natural Resources Conservation Service

DAGS60384 Confidential Assistant to the Secretary

DAGS60436 Confidential Assistant to the Administrator

Department of Commerce

DCGS00030 Special Assistant to the National Director, Minority Business Development Agency

DCGS00048 Confidential Assistant to the Legislative Affairs Specialist

DCGS00074 Director of Public Affairs to the Deputy Assistant Secretary for External Affairs and Communication

DCGS00154 Senior Advisor to the Under Secretary of Commerce for Industry and Security

DCGS00160 Confidential Assistant to the Director, Advocacy Center

DCGS00161 Confidential Assistant to the Director, Office of Legislative Affairs

DCGS00162 Senior Advisor to the Assistant Secretary for Market Access and Compliance

DCGS00172 Policy Advisor to the Assistant Secretary for Export Administration

DCGS00184 Confidential Assistant to the Assistant Secretary for Telecommunications and Information

DCGS00199 Legislative Affairs Specialist to the Assistant Secretary for Legislative and Intergovernmental Affairs

DCGS00202 Legislative Affairs Specialist to the Assistant Secretary for Legislative and Intergovernmental Affairs

DCGS00237 Senior Advisor to the Under Secretary for International Trade

DCGS00252 Confidential Assistant to the Assistant Secretary for Legislative and Intergovernmental Affairs

DCGS00262 Special Assistant to the Deputy Assistant Secretary for Services

DCGS00272 Special Assistant to the Director, Advocacy Center

DCGS00298 Senior Advisor to the Assistant Secretary for Telecommunications and Information

DCGS00317 Deputy Director of Advisory Committees to the Director of Advisory Committees

DCGS00338 Press Secretary to the Director of Public Affairs

DCGS00342 Chief of Staff for International Trade Administration/Import Administration to the Assistant Secretary for Import Administration

DCGS00351 Confidential Assistant to the Deputy General Counsel

DCGS00359 Confidential Assistant to the Chief of Staff

DCGS00361 Chief of Congressional Affairs to the Associate Director for Communications

DCGS00368 Congressional Affairs Specialist to the Director, Office of Legislative Affairs

DCGS00380 Confidential Assistant to the Under Secretary for International Trade

DCGS00382 Confidential Assistant to the Coordinator for International Intellectual Property Enforcement

DCGS00383 Confidential Assistant to the Director, Advocacy Center

DCGS00386 Confidential Assistant to the Director, Office of Legislative Affairs

DCGS00389 Senior Advisor to the Assistant Secretary for Import Administration

DCGS00391 Special Assistant to the Under Secretary for Economic Affairs

DCGS00395 Confidential Assistant to the Director of Global Trade Programs

DCGS00398 Special Assistant to the Director, Advocacy Center

DCGS00418 Special Assistant to the Under Secretary for Economic Affairs

DCGS00427 Senior Advisor to the Assistant Secretary for Export Enforcement

DCGS00432 Confidential Assistant to the Director of Advance

DCGS00433 Senior Policy Advisor to the Chief of Staff for National Oceanic and Atmospheric Administration

DCGS00435 Confidential Assistant to the Deputy Secretary

DCGS00442 Director of Public Affairs to the Assistant Secretary for Telecommunications and Information

DCGS00446 Chief of Staff and Senior Advisor to the Under Secretary of Commerce for Industry and Security

DCGS00447 Confidential Assistant to the Director of Scheduling

DCGS00448 Confidential Assistant to the Assistant Secretary for Market Access and Compliance

DCGS00452 Confidential Assistant to the Chief of Staff

DCGS00457 Confidential Assistant to the Director of Scheduling

DCGS00460 Director of Intergovernmental Affairs to the Assistant Secretary for Legislative and Intergovernmental Affairs

DCGS00467 Confidential Assistant to the Deputy Assistant Secretary for Economic Development

DCGS00469 Deputy Director to the Director Office of White House Liaison

DCGS00473 Special Assistant to the Deputy General Counsel

DCGS00476 Deputy Director, Executive Secretariat to the Director, Executive Secretariat

DCGS00485 Special Assistant to the Director, Office of External Affairs

DCGS00488 Confidential Assistant to the Director, Office of Business Liaison

DCGS00492 Confidential Assistant to the Director of Advance

DCGS00495 Special Assistant to the Chief of Staff

DCGS00502 Deputy Director of Advance to the Director of Advance

DCGS00507 Confidential Assistant to the Chief of Staff for Market Access and Compliance

DCGS00521 Confidential Assistant to the Assistant Secretary and Director General of United States/For Commercial Services

DCGS00526 Confidential Assistant to the Under Secretary for International Trade

DCGS00540 Deputy Chief of Protocol to the Chief of Staff

DCGS00541 Special Assistant to the Deputy Assistant Secretary for Domestic Operations

DCGS00547 Confidential Assistant to the Deputy Under Secretary and Deputy Director of U.S. Patent and Trademark Office

DCGS00553 Confidential Assistant to the Assistant Secretary for Export Enforcement

DCGS00556 Confidential Assistant to the Chief of Staff to the Deputy Secretary

DCGS00561 Legislative Affairs Specialist to the Deputy Under Secretary and Deputy Director of U.S. Patent and Trademark Office

DCGS00562 Policy Advisor to the Assistant to the Secretary and Director, Office of Policy and Strategic Planning

DCGS00569 Confidential Assistant to the Director for Speechwriting

DCGS00575 Confidential Assistant to the Director Office of White House Liaison

DCGS00579 Director for Legislative and Intergovernmental Affairs to the Assistant Secretary for Legislative and Intergovernmental Affairs

DCGS00587 Confidential Assistant to the Assistant Secretary for Legislative and Intergovernmental Affairs

DCGS00590 Confidential Assistant to the Director, Executive Secretariat

DCGS00593 Senior Advisor to the Coordinator for International Intellectual Property Enforcement

DCGS00599 Confidential Assistant to the Director, Office of Legislative Affairs

DCGS00603 Special Assistant to the Under Secretary for International Trade

DCGS00612 Director of Advisory Committees to the Assistant Secretary for Manufacturing and Services

DCGS00620 Director, Office of Legislative Affairs to the Under Secretary for International Trade

DCGS00652 Confidential Assistant to the Director of Public Affairs

DCGS00653 Deputy Director, Office of Public Affairs to the Director of Public Affairs

DCGS00655 Senior Advisor to the Deputy Assistant Secretary for Domestic Operations

DCGS00664 Special Assistant to the Director, Advocacy Center

DCGS00669 Confidential Assistant to the Assistant Secretary for Market Access and Compliance

DCGS00680 Deputy Press Secretary to the Director of Public Affairs

DCGS00684 Director for Speechwriting to the Director of Public Affairs

DCGS00686 Director of Advance to the Chief of Staff

DCGS00687 Policy Advisor to the Assistant to the Secretary and Director, Office of Policy and Strategic Planning

DCGS00688 Confidential Assistant to the Chief of Staff for Market Access and Compliance

DCGS00689 Confidential Assistant to the Director, Executive Secretariat

DCGS60001 Deputy Director, Office of Business Liaison to the Director to the Director, Office of Business Liaison

DCGS60072 Director of Congressional Affairs to the Deputy Assistant Secretary for External Affairs and Communication

DCGS60136 Special Assistant to the Under Secretary of Commerce for Industry and Security

DCGS60189 Special Assistant to the Secretary

DCGS60263 Special Assistant to the Executive Director for Trade Promotion and Outreach

DCGS60276 Executive Assistant to the Under Secretary for Economic Affairs

DCGS60291 Public Affairs Specialist to the Director of Public Affairs

DCGS60302 Director of External Affairs to the Director of Communications

DCGS60312 Senior Advisor to the Deputy Assistant Secretary for Domestic Operations

DCGS60321 Director of Public Affairs to the Under Secretary for International Trade

DCGS60395 Confidential Assistant to the Executive Director for Trade Promotion and Outreach

DCGS60462 Director of Operations to the Deputy Under Secretary and Deputy Director of US Patent and Trademark Office

DCGS60490 Director of Scheduling to the Chief of Staff

DCGS60512 Senior Advisor to the Under Secretary of Commerce for Industry and Security

DCGS60532 Senior Counsel to the General Counsel

DCGS60536 Speechwriter to the Director for Speechwriting

DCGS60574 Confidential Assistant to the Director, Office of Business Liaison

DCGS60575 Confidential Assistant to the Deputy Assistant Secretary for Europe

DCGS60583 Special Assistant to the Assistant Secretary for Administrator and Chief Financial Officer

DCGS60596 Confidential Assistant to the Director of Public Affairs

DCGS60618 Special Assistant to the Deputy Under Secretary and Deputy Director of US Patent and Trademark Office

DCGS60637 Special Assistant to the Executive Director for Trade Promotion and Outreach

DCGS60670 Director Office of Business Liaison to the Chief of Staff for National Oceanic and Atmospheric Administration

DCGS60681 Speechwriter to the Under Secretary of Commerce for Intellectual Property and Director of the US Patent and Trademark Office

Department of Labor

DLGS00089 Director of Field Operations to the Director of Scheduling

DLGS00108 Senior Advance Representative to the Director of Planning, Scheduling, and Advance

DLGS00166 Staff Assistant to the Director, 21st Century Office and Deputy Assistant Secretary for Intergovernmental Affairs

DLGS00171 Special Assistant to the Director of Scheduling

DLGS60003 Staff Assistant to the Director, 21st Century Office and Deputy Assistant Secretary for Intergovernmental Affairs

DLGS60007 Special Assistant to the Director, 21st Century Office and Deputy Assistant Secretary for Intergovernmental Affairs

DLGS60011 Staff Assistant to the Deputy Secretary of Labor

DLGS60015 Intergovernmental Assistant to the Assistant Secretary for Congressional and Intergovernmental Affairs

DLGS60017 Senior Legislative Officer to the Assistant Secretary for Congressional and Intergovernmental Affairs

DLGS60041 Staff Assistant to the Deputy Chief of Staff

DLGS60042 Special Assistant to the Assistant Secretary for Public Affairs

DLGS60043 Special Assistant to the Assistant Secretary for Occupational Safety and Health

DLGS60044 Special Assistant to the Director, Office of Faith Based and Community Initiatives

DLGS60066 Staff Assistant to the Deputy Assistant Secretary for Federal Contract Compliance

DLGS60074 Special Assistant to the Assistant Secretary for Public Affairs

DLGS60076 Special Assistant to the Assistant Secretary for Employment Standards

DLGS60079 Staff Assistant to the Assistant Secretary for Policy

DLGS60081 Legislative Assistant to the Assistant Secretary for Congressional and Intergovernmental Affairs

DLGS60086 Senior Advisor to the Wage and Hour Administrator

DLGS60092 Senior Attorney Adviser to the Solicitor of Labor

DLGS60093 Staff Assistant to the Director of Scheduling

DLGS60096 Chief of Staff to the Deputy Assistant Secretary for Labor-Management Programs

DLGS60097 Special Assistant to the Assistant Secretary for Administration and Management

DLGS60099 Special Assistant to the Deputy Assistant Secretary for Employment and Training

DLGS60101 Chief of Staff to the Assistant Secretary for Public Affairs

DLGS60104 Regional Representative to the Assistant Secretary for Congressional and Intergovernmental Affairs

DLGS60105 Regional Representative to the Assistant Secretary for Congressional and Intergovernmental Affairs

DLGS60107 Regional Representative to the Assistant Secretary for Congressional and Intergovernmental Affairs

DLGS60109 Regional Representative to the Assistant Secretary for Congressional and Intergovernmental Affairs

DLGS60110 Regional Representative to the Assistant Secretary for Congressional and Intergovernmental Affairs

DLGS60111 Regional Representative to the Assistant Secretary for Congressional and Intergovernmental Affairs

DLGS60112 Regional Representative to the Assistant Secretary for Congressional and Intergovernmental Affairs

DLGS60113 Special Assistant to the Deputy Assistant Secretary, Office of Disability Employment Policy

DLGS60117 Special Assistant to the Assistant Secretary for Employment Standards

DLGS60118 Staff Assistant to the Deputy Chief of Staff

DLGS60119 Staff Assistant to the Associate Counselor to the Secretary

DLGS60121 Special Assistant to the Deputy Chief of Staff

DLGS60122 Senior Advisor to the Wage and Hour Administrator

DLGS60123 Special Assistant to the Deputy Assistant Secretary

DLGS60130 Legislative Assistant to the Assistant Secretary for Congressional and Intergovernmental Affairs

DLGS60131 Special Assistant to the Assistant Secretary for Employment and Training

DLGS60132 Senior Advisor to the Associate Deputy Secretary

DLGS60133 Chief of Staff to the Director of the Women's Bureau

DLGS60135 Agency Liaison Officer to the Executive Secretary

DLGS60137 Staff Assistant to the Assistant Secretary for Public Affairs

DLGS60138 Chief of Staff to the Assistant Secretary for Mine Safety and Health

DLGS60141 Special Assistant to the Deputy Assistant Secretary for Labor-Management Programs

DLGS60144 Special Assistant to the Director of Scheduling

DLGS60145 Intergovernmental Officer to the Assistant Secretary for Congressional and Intergovernmental Affairs

DLGS60146 Attorney Advisor to the Solicitor of Labor

DLGS60147 Attorney Adviser to the Solicitor of Labor

DLGS60153 Special Assistant to the Deputy Under Secretary for International Affairs

DLGS60160 Speechwriter to the Assistant Secretary for Public Affairs

DLGS60161 Attorney Advisor to the Solicitor of Labor

DLGS60169 Deputy Director, Executive Secretariat to the Executive Secretary

DLGS60170 Special Assistant to the Director, Office of Faith Based and Community Initiatives

DLGS60172 Special Assistant to the Associate Deputy Secretary

DLGS60175 Senior Advisor to the Deputy Assistant Secretary for Policy

DLGS60176 Special Assistant to the Associate Deputy Secretary

DLGS60178 Staff Assistant to the Executive Secretary

DLGS60179 Special Assistant to the Deputy Wage and Hour Administrator

DLGS60180 Senior Legislative Officer to the Assistant Secretary for Congressional and Intergovernmental Affairs

DLGS60181 Special Assistant to the Assistant Secretary for Public Affairs

DLGS60182 Special Assistant to the White House Liaison

DLGS60187 Special Assistant to the Assistant Secretary for Employment and Training

DLGS60189 Special Assistant to the Chief Financial Officer

DLGS60192 Chief of Staff to the Assistant Secretary for Employee Benefits Security

DLGS60194 Special Assistant to the Associate Deputy Secretary

DLGS60195 Special Assistant to the Deputy Assistant Secretary for Labor-Management Programs

DLGS60196 Special Assistant to the Assistant Secretary for Veterans Employment and Training

DLGS60197 Legislative Officer to the Assistant Secretary for Congressional and Intergovernmental Affairs

DLGS60198 Special Assistant to the Assistant Secretary for Administration and Management

DLGS60199 Special Assistant to the Assistant Secretary for Public Affairs

DLGS60204 Special Assistant to the Assistant Secretary for Veterans Employment and Training

DLGS60205 Deputy Director, 21st Century Workforce to the Director, 21st Century Workforce

DLGS60209 Chief of Staff to the Assistant Secretary for Veterans Employment and Training

DLGS60210 Deputy Director to the Director, Office of Faith Based and Community Initiatives

DLGS60211 Special Assistant to the Director of Scheduling

DLGS60212 Special Assistant to the Director, Office of Faith Based and Community Initiatives

DLGS60214 Special Assistant to the Director, Office of Faith Based and Community Initiatives

DLGS60215 Special Assistant to the Assistant Secretary for Occupational Safety and Health

DLGS60217 Senior Legislative Officer to the Assistant Secretary for Congressional and Intergovernmental Affairs

DLGS60218 Special Assistant to the Assistant Secretary for Public Affairs

DLGS60219 Staff Assistant to the Director, 21st Century Office and Deputy Assistant Secretary for Intergovernmental Affairs

DLGS60220 Special Assistant to the Assistant Secretary for Public Affairs

DLGS60222 Special Assistant to the Assistant Secretary for Disability Employment Policy

DLGS60224 Special Assistant to the Assistant Secretary for Mine Safety and Health

DLGS60225 Special Assistant to the Assistant Secretary for Public Affairs

DLGS60228 Chief of Staff to the Assistant Secretary for Occupational Safety and Health

DLGS60230 Staff Assistant to the Associate Deputy Secretary

DLGS60232 Special Assistant to the Assistant Secretary for Administration and Management

DLGS60233 Senior Advisor to the Assistant Secretary for Employment Standards

DLGS60234 Chief of Staff to the Assistant Secretary for Policy

DLGS60236 Legislative Officer to the Assistant Secretary for Congressional and Intergovernmental Affairs

DLGS60237 Special Assistant to the Secretary of Labor

DLGS60239 Special Assistant to the Director of Scheduling

DLGS60240 Legislative Officer to the Assistant Secretary for Congressional and Intergovernmental Affairs

DLGS60244 Special Assistant to the Executive Assistant to the Secretary

DLGS60246 Director of Events to the Director of Scheduling

DLGS60247 Legislative Assistant to the Assistant Secretary for Congressional and Intergovernmental Affairs

DLGS60248 Special Assistant to the Director of Public Liaison

DLGS60249 Attorney Adviser to the Deputy Solicitor of Labor

DLGS60250 Deputy Director of Scheduling to the Director of Scheduling

DLGS60253 Special Assistant to the Deputy Secretary of Labor

DLGS60255 Counselor to the Deputy Secretary of Labor

DLGS60256 Special Assistant to the Deputy Assistant Secretary for Labor-Management Programs

DLGS60260 Staff Assistant to the Director, 21st Century Office and Deputy Assistant Secretary for Intergovernmental Affairs

DLGS60261 Special Assistant to the Deputy Assistant Secretary

DLGS60262 Special Assistant to the Assistant Secretary for Employment Standards

DLGS60263 Special Assistant to the Deputy Assistant Secretary for Labor-Management Programs

DLGS60266 Chief of Staff to the Assistant Secretary for Mine Safety and Health

DLGS60269 Special Assistant to the Deputy Secretary of Labor

DLGS60272 Special Assistant to the Deputy Chief of Staff

DLGS60273 Special Assistant to the Chief Information Officer to the Assistant Secretary for Administration and Management

DLGS60277 Special Assistant to the Assistant Secretary for Administration and Management

Department of Health and Human Services

DHGS00269 Chief Acquisitions Officer to the Assistant Secretary for Administration and Management

DHGS60005 Special Assistant to the Assistant Secretary for Aging to the Assistant Secretary for Aging (Commissioner for Aging)

DHGS60007 Special Assistant to the Associate Commissioner for External Relations

DHGS60009 Special Assistant to the Assistant Secretary for Preparedness and Response to the Assistant Secretary for Public Health Emergency Preparedness

DHGS60010 Confidential Assistant (Faith-Based) to the Director, Center for Faith Based and Community Initiatives

DHGS60011 Special Assistant to the Commissioner to the Commissioner of Food and Drugs

DHGS60014 Director (Office of Documents and Regulations Management) to the Executive Secretary to the Department

DHGS60015 Deputy Director, Center for Faith Based and Community Initiatives to the Director, Center for Faith Based and Community Initiatives

DHGS60016 Confidential Assistant to the Director, Center for Faith Based and Community Initiatives

DHGS60017 Director of Scheduling to the Chief of Staff

DHGS60018 Deputy Director for Advance to the Director of Scheduling

DHGS60021 Special Assistant to the Director, Office of Community Services to the Director Office of Community Services

DHGS60027 Deputy Director for Scheduling to the Director of Scheduling

DHGS60028 Special Assistant to the Chief of Staff

DHGS60029 Special Assistant to the Assistant Secretary for Public Affairs

DHGS60030 Special Assistant to the General Counsel

DHGS60033 Special Assistant to the Assistant Secretary for Administration and Management

DHGS60035 Confidential Assistant to the Administrator to the Administrator Centers for Medicare and Medicaid Services

DHGS60036 Confidential Assistant to the Director to the Director of Intergovernmental Affairs

DHGS60037 Associate Director to the Director Office of Refugee Resettlement

DHGS60041 Special Assistant to the Deputy Commissioner for Policy

DHGS60044 Special Assistant to the Assistant Secretary for Legislation to the Assistant Secretary for Legislation

DHGS60046 Senior Speech Writer to the Assistant Secretary for Public Affairs

DHGS60054 Special Assistant to the Assistant Secretary for Administration and Management

DHGS60060 Special Assistant to the Deputy Assistant Secretary for Policy and External Affairs

DHGS60063 Confidential Assistant to the Director of Public Affairs

DHGS60065 Confidential Assistant to the Chief of Staff to the Chief of Staff

DHGS60066 Confidential Assistant to the Chief of Staff to the Chief of Staff

DHGS60070 Special Assistant to the Assistant Secretary for Planning and Evaluation to the Assistant Secretary for Planning and Evaluation

DHGS60071 Special Assistant to the Assistant Secretary for Planning and Evaluation to the Assistant Secretary for Planning and Evaluation

DHGS60072 Confidential Assistant to the Assistant Secretary for Planning and Evaluation to the Assistant Secretary for Planning and Evaluation

DHGS60073 Special Assistant (Center for Faith-Based and Community Initiatives) to the Director, Center for Faith Based and Community Initiatives

DHGS60127 Confidential Assistant to the Administrator Centers for Medicare and Medicaid Services

DHGS60129 Special Assistant to the Administrator Centers for Medicare and Medicaid Services

DHGS60130 Special Assistant to the Assistant Secretary for Health to the Assistant Secretary, Health

DHGS60133 Special Assistant to the Assistant Secretary for Budget, Technology and Finance to the Assistant Secretary for Resources and Technology

DHGS60168 Confidential Assistant to the Deputy Assistant Secretary for Legislation (Planning and Budget)

DHGS60169 Special Assistant to the Assistant Secretary for Public Affairs to the Assistant Secretary for Public Affairs

DHGS60180 Special Assistant to the Principal Deputy Assistant Secretary for Planning and Evaluation

DHGS60237 Regional Director, New York, New York, Region II to the Director of Intergovernmental Affairs

DHGS60238 Regional Director, Boston, Massachusetts, Region I to the Director of Intergovernmental Affairs

DHGS60240 Regional Director, Dallas, Texas, Region VI to the Director of Intergovernmental Affairs

DHGS60244 Regional Director, Seattle, Washington, Region X to the Director of Intergovernmental Affairs

DHGS60247 Regional Director Philadelphia Region III to the Director of Intergovernmental Affairs

DHGS60252 Regional Director, Denver, Colorado, Region VIII to the Director of Intergovernmental Affairs

DHGS60255 Regional Director, Chicago, Illinois-Region V to the Director of Intergovernmental Affairs

DHGS60256 Confidential Assistant to the Director Iga to the Director of Intergovernmental Affairs

DHGS60293 Special Assistant to the Commissioner Administration for Children Youth and Families

DHGS60336 Confidential Assistant to the Deputy Assistant Secretary for Legislation (Human Services) to the Deputy Assistant Secretary for Legislation (Human Services)

DHGS60347 Congressional Liaison Specialist to the Deputy Assistant Secretary for Legislation (Congressional Liaison)

DHGS60374 Confidential Assistant to the Executive Secretary to the Department

DHGS60399 Special Assistant to the Assistant Secretary for Children and Families

DHGS60412 Regional Director, San Francisco, California, Region IX to the Director of Intergovernmental Affairs

DHGS60417 Regional Director, Kansas City, Missouri, Region VII to the Director of Intergovernmental Affairs

DHGS60427 Executive Director, President's Committee for People With Intellectual Disabilities to the Assistant Secretary for Children and Families

DHGS60513 Confidential Assistant to the Deputy Director of Child Support Enforcement

DHGS60523 Executive Director, President's Council on Physical Fitness and Sports to the Assistant Secretary, Health

DHGS60526 Confidential Assistant to the Deputy Secretary to the Deputy Secretary, Health and Human Services

DHGS60527 Confidential Assistant (Scheduling) to the Director of Scheduling

DHGS60539 Special Assistant to the General Counsel

DHGS60542 Confidential Assistant to the Administrator to the Administrator Centers for Medicare and Medicaid Services

DHGS60545 Special Assistant to the Assistant Secretary, Health

DHGS60570 Confidential Assistant (Advance) to the Deputy Director for Advance

DHGS60627 Confidential Assistant to the Administrator, Substance Abuse and Mental Health Services Administration to the Administrator, Substance Abuse and Mental Health Service

DHGS60636 Senior Advisor to the Director, Indian Health Service to the Director, Indian Health Service

DHGS60675 Special Assistant to the Assistant Secretary for Aging (Commissioner for Aging)

DHGS60681 Special Assistant to the Director Media Affairs to the Director of Media Affairs

DHGS60689 Director of Media Affairs to the Director, Office of External Affairs

Department of Education

DBGS00211 Special Assistant to the Deputy Under Secretary for Safe and Drug-Free Schools

DBGS00222 Confidential Assistant to the Director, Scheduling and Advance Staff

DBGS00226 Confidential Assistant to the Special Assistant

DBGS00249 Special Assistant to the Assistant Secretary for Postsecondary Education

DBGS00262 Confidential Assistant to the Special Assistant

DBGS00270 Confidential Assistant (White House Liaison) to the White House Liaison

DBGS00283 Special Assistant to the Deputy Assistant Secretary for External Affairs

DBGS00284 Confidential Assistant (Protocol) to the Deputy Chief of Staff for Operations

DBGS00285 Special Assistant (Education Attache to the United States Mission to the United Nations Educational, Scientific and Cultural Organization) to the Secretary

DBGS00290 Special Assistant to the Assistant Secretary for Vocational and Adult Education

DBGS00298 Confidential Assistant to the Deputy Chief of Staff for Policy and Programs

DBGS00299 Special Assistant to the Assistant Secretary for Elementary and Secondary Education

DBGS00303 Director, White House Initiative on Hispanic Education to the Chief of Staff

DBGS00306 Deputy Assistant Secretary to the Assistant Secretary for Legislation and Congressional Affairs

DBGS00344 Special Assistant to the Deputy Assistant Secretary

DBGS00355 Confidential Assistant to the Deputy Secretary of Education

DBGS00359 Special Assistant to the Assistant Secretary for Civil Rights

DBGS00368 Confidential Assistant to the Special Assistant

DBGS00375 Confidential Assistant to the Assistant Secretary for Special Education and Rehabilitative Services

DBGS00376 Director, Scheduling and Advance Staff to the Chief of Staff

DBGS00379 Confidential Assistant to the Assistant Secretary for Postsecondary Education

DBGS00394 Confidential Assistant to the Special Assistant

DBGS00396 Special Assistant to the Director, Faith-Based and Community Initiatives Center

DBGS00404 Special Assistant to the Deputy General Counsel for Departmental and Legislative Service

DBGS00421 Confidential Assistant to the Special Assistant

DBGS00423 Secretary's Regional Representative to the Director, Regional Services

DBGS00424 Secretary's Regional Representative to the Director, Regional Services

DBGS00425 Secretary's Regional Representative to the Director, Regional Services

DBGS00427 Secretary's Regional Representative to the Director, Regional Services

DBGS00428 Confidential Assistant to the Director, Regional Services

DBGS00435 Special Assistant to the Deputy Assistant Secretary for External Affairs

DBGS00436 Special Assistant to the Deputy Assistant Secretary for Media Relations and Strategic Communications

DBGS00446 Deputy Secretary's Regional Representative to the Secretary's Regional Representative, Region 3

DBGS00447 Secretary's Regional Representative, Region 3 to the Deputy Assistant Secretary for External Affairs

DBGS00449 Deputy Secretary's Regional Representative, Region VI to the Secretary

DBGS00451 Secretary's Regional Representative, Region 5 to the Director, Regional Services

DBGS00452 Secretary's Regional Representative, Region 7 to the Director, Regional Services

DBGS00453 Secretary's Regional Representative, Region 8 to the Director, Regional Services

DBGS00454 Deputy Secretary's Regional Representative, Region 8 to the Director, Regional Services

DBGS00455 Deputy Secretary's Regional Representative—Region X to the Director, Regional Services

DBGS00462 Special Assistant to the Assistant Secretary, Office of Communications and Outreach

DBGS00467 Director, Faith-Based and Community Initiatives Center to the Chief of Staff

DBGS00474 Deputy Secretary's Regional Representative, Region 5 to the Director, Regional Services

DBGS00477 Deputy Secretary's Regional Representative, Region 4 to the Director, Regional Services

DBGS00478 Confidential Assistant to the Assistant Secretary for Legislation and Congressional Affairs

DBGS00481 Special Assistant to the Assistant Secretary for Elementary and Secondary Education

DBGS00490 Deputy Assistant Secretary for Media Relations and Strategic Communications to the Assistant Secretary, Office of Communications and Outreach

DBGS00495 Special Assistant to the Chief of Staff

DBGS00496 Deputy Assistant Secretary for Performance Improvement to the Deputy Assistant Secretary for Process Improvement

DBGS00499 Director, Intergovernmental Affairs to the Deputy Assistant Secretary for External Affairs and Outreach Services

DBGS00503 Deputy Secretary's Regional Representative, Region 1 to the Director, Regional Services

DBGS00505 Secretary's Regional Representative, Region VI to the Director, Regional Services

DBGS00507 Confidential Assistant to the General Counsel

DBGS00511 Special Assistant to the Director, International Affairs Office

DBGS00518 Special Assistant to the Director, Regional Services

DBGS00531 Press Secretary to the Assistant Secretary, Office of Communications and Outreach

DBGS00532 Special Assistant to the Director, Office of Educational Technology

DBGS00533 Special Assistant to the Director, White House Liaison

DBGS00536 Confidential Assistant to the Special Assistant

DBGS00537 Special Assistant to the Chief of Staff

DBGS00541 Special Assistant to the Assistant Deputy Secretary for Safe and Drug-Free Schools

DBGS00542 Special Assistant to the Executive Assistant

DBGS00543 Special Assistant to the Deputy Assistant Secretary (Senate)

DBGS00547 Special Assistant to the Assistant Secretary for Civil Rights

DBGS00549 Special Assistant to the Assistant Secretary for Special Education and Rehabilitative Services

DBGS00551 Confidential Assistant to the Chief of Staff

DBGS00554 Confidential Assistant to the Deputy Chief of Staff for Policy and Programs

DBGS00555 Confidential Assistant to the Assistant Secretary for Management

DBGS00559 Special Assistant to the Secretary's Regional Representative, Region 8

DBGS00560 Chief of Staff to the Assistant Secretary for Planning, Evaluation, and Policy Development

DBGS00564 Special Assistant to the Secretary's Regional Representative, Region IX

DBGS00569 Special Assistant to the Assistant Secretary for Elementary and Secondary Education

DBGS00574 Deputy Assistant Secretary for Community Colleges to the Assistant Secretary for Vocational and Adult Education

DBGS00576 Special Assistant to the Director, Scheduling and Advance Staff

DBGS00578 Confidential Assistant to the Assistant Secretary for Elementary and Secondary Education

DBGS00586 Special Assistant to the Deputy Assistant Secretary for Media Relations and Strategic Communications

DBGS00589 Confidential Assistant to the Director, Scheduling and Advance Staff

DBGS00597 Confidential Assistant to the Assistant Deputy Secretary

DBGS00598 Confidential Assistant to the Assistant Secretary for Legislation and Congressional Affairs

DBGS00604 Director, Office of International Affairs to the Director, International Affairs Office

DBGS00605 Deputy Secretary's Regional Representative to the Director, Regional Services

DBGS00607 Confidential Assistant to the Assistant Secretary for Special Education and Rehabilitative Services

DBGS00609 Special Assistant to the Under Secretary

DBGS00612 Special Assistant to the General Counsel

DBGS00614 Confidential Assistant to the Assistant Secretary, Office of Communications and Outreach

DBGS00615 Special Assistant to the Assistant Secretary for Elementary and Secondary Education

DBGS00616 Special Assistant to the Assistant Secretary for Elementary and Secondary Education

DBGS00617 Confidential Assistant to the Chief of Staff

DBGS00621 Confidential Assistant to the Senior Advisor to the Under Secretary

DBGS00623 Confidential Assistant to the Assistant Secretary for Elementary and Secondary Education

DBGS00624 Confidential Assistant to the Assistant Secretary for Postsecondary Education

DBGS00628 Confidential Assistant to the Chief of Staff

DBGS00629 Confidential Assistant to the Special Assistant

DBGS00630 Special Assistant to the Chief of Staff

DBGS00634 Confidential Assistant to the General Counsel

DBGS00635 Special Assistant to the Chief of Staff

DBGS00640 Deputy Secretary's Regional Representative to the Deputy Secretary's Regional Representative

DBGS00641 Chief of Staff to the Chief Financial Officer

DBGS00642 Confidential Assistant to the Assistant Deputy Secretary for Safe and Drug-Free Schools

DBGS00644 Chief of Staff for the Office of Communications and Outreach to the Assistant Secretary, Office of Communications and Outreach

DBGS00648 Confidential Assistant to the Assistant Secretary for Civil Rights

DBGS00649 Confidential Assistant to the Director, Scheduling and Advance Staff

DBGS00652 Special Assistant to the Assistant Secretary for Management

DBGS00655 Special Assistant to the Director, Office of Educational Technology

DBGS00657 Confidential Assistant to the Chief of Staff to the Deputy Secretary

DBGS00658 Deputy Assistant Secretary for External Affairs to the Assistant Secretary, Office of Communications and Outreach

DBGS00661 Special Assistant to the Director, Scheduling and Advance Staff

DBGS00662 Deputy Assistant Secretary to the Assistant Secretary, Office of Communications and Outreach

DBGS00663 Special Assistant to the Deputy Assistant Secretary for Media Relations and Strategic Communications

DBGS00664 Chief of Staff to the Assistant Secretary for Vocational and Adult Education

DBGS00665 Confidential Assistant to the Deputy Assistant Secretary

DBGS00666 Executive Director, White House Initiative on Tribal Colleges and Universities to the Assistant Secretary for Postsecondary Education

DBGS00667 Special Assistant to the Assistant Deputy Secretary for Innovation and Improvement

DBGS00668 Associate Assistant Deputy Secretary for Parental Rights to the Assistant Deputy Secretary for Innovation and Improvement

DBGS00669 Senior Advisor to the Assistant Secretary to the Assistant Secretary, Office of Communications and Outreach

DBGS60112 Confidential Assistant to the Special Assistant

DBGS60143 Special Assistant to the Director, Faith-Based and Community Initiatives Center

DBGS60164 Confidential Assistant to the Senior Advisor to the Under Secretary

Environmental Protection Agency

EPGS03500 Senior Policy Advisor to the Deputy Assistant Administrator for Water

EPGS05006 Speech Writer to the Associate Administrator for Public Affairs

EPGS05031 Program Specialist to the Assistant Administrator for Administration and Resources Management

EPGS06000 Senior Policy Advisor to the Regional Administrator

EPGS06008 Advance Specialist to the Deputy Chief of Staff (Operations)

EPGS06015 Staff Secretary to the Chief of Staff

EPGS06028 Deputy Associate Administrator to the Associate Administrator for Congressional and Intergovernmental Relations

EPGS06033 Assistant to the Deputy Administrator

EPGS06036 Supervisory Public Affairs Specialist to the Associate Administrator for Public Affairs

EPGS07007 Audio Visual Producer to the Deputy Chief of Staff (Operations)

EPGS07017 Program Manager (Operations) to the Deputy Chief of Staff (Operations)

EPGS07021 Special Assistant to the Administrator/Executive Assistant to the Assistant Administrator to the Assistant Administrator for International Activities

EPGS07022 Program Manager (Scheduling) to the Deputy Chief of Staff (Operations)

EPGS07023 Advance Specialist to the Deputy Chief of Staff (Operations)

EPGS07025 Advance Specialist to the Deputy Chief of Staff (Operations)

EPGS07027 Strategic Scheduler to the Deputy Chief of Staff (Operations)

EPGS07029 Director of Advance to the Deputy Chief of Staff (Operations)

EPGS07030 Deputy to the Scheduler to the Deputy Chief of Staff (Operations)

EPGS08002 Deputy Associate Administrator to the Associate Administrator for Public Affairs

EPGS08003 Press Secretary to the Associate Administrator for Public Affairs

EPGS08004 Deputy Press Secretary to the Associate Administrator for Public Affairs

EPGS08006 Special Assistant to the Associate Administrator for Public Affairs

EPGS08010 Special Assistant to the Associate Administrator for Congressional and Intergovernmental Relations

EPGS60069 Special Assistant for Communications to the Assistant Administrator for Water

EPGS60071 Senior Advisor to the Assistant Administrator for International Activities

EPGS60074 Policy Analyst to the Assistant Administrator for Air and Radiation

EPGS60076 Senior Counsel to the Associate Administrator for Congressional and Intergovernmental Relations

Overseas Private Investment Corporation

PQGS06002 Confidential Assistant to the Chief of Staff

PQGS08015 Research Specialist to the Chief of Staff

PQGS60018 Executive Assistant to the President

PQGS60020 Executive Assistant to the Executive Vice President

United States Tax Court

JCGS60040 00301 Chambers Administrator to the Chief Judge

JCGS60041 00301 Chambers Administrator to the Chief Judge

JCGS60042 00301 Chambers Administrator to the Chief Judge

JCGS60043 00301 Chambers Administrator to the Chief Judge

JCGS60044 00301 Chambers Administrator to the Chief Judge

JCGS60045 00301 Chambers Administrator to the Chief Judge

JCGS60047 00301 Chambers Administrator to the Chief Judge

JCGS60048 00301 Chambers Administrator to the Chief Judge

JCGS60049 00301 Chambers Administrator to the Chief Judge

JCGS60050 00301 Chambers Administrator to the Chief Judge

JCGS60052 00301 Chambers Administrator to the Chief Judge

JCGS60053 00301 Chambers Administrator to the Chief Judge

JCGS60054 00301 Chambers Administrator to the Chief Judge

JCGS60057 00301 Chambers Administrator to the Chief Judge

JCGS60058 Chambers Administrator to the Chief Judge

JCGS60059 00301 Chambers Administrator to the Chief Judge

JCGS60060 00301 Chambers Administrator to the Chief Judge

JCGS60061 00301 Chambers Administrator to the Chief Judge

JCGS60063 00301 Chambers Administrator to the Chief Judge

JCGS60064 00301 Chambers Administrator to the Chief Judge

JCGS60065 0301 Chambers Administrator to the Chief Judge

JCGS60067 Trial Clerk to the Chief Judge

JCGS60068 Trial Clerk to the Chief Judge

JCGS60069 Trial Clerk to the Chief Judge

JCGS60070 Trial Clerk to the Chief Judge

JCGS60071 Trial Clerk to the Chief Judge

JCGS60072 Trial Clerk to the Chief Judge

JCGS60073 Trial Clerk to the Chief Judge

JCGS60074 Trial Clerk to the Chief Judge

JCGS60075 Trial Clerk to the Chief Judge

JCGS60077 Trial Clerk to the Chief Judge

JCGS60078 Trial Clerk to the Chief Judge

JCGS60079 Trial Clerk to the Chief Judge

JCGS60083 Chambers Administrator to the Chief Judge

JCGS60084 Trial Clerk to the Chief Judge

JCGS60085 Trial Clerk to the Chief Judge

JCGS60086 Trial Clerk to the Chief Judge

Department of Veterans Affairs

DVGS60014 Special Assistant to the Assistant Secretary for Public and Intergovernmental Affairs

DVGS60015 Special Assistant to the Special Assistant (Supervisory Regional Veterans Service Liaison Officer)

DVGS60032 Director, Center for Faith Based Community Initiatives to the Secretary of Veterans Affairs

DVGS60036 Protocol Liaison Officer to the Secretary of Veterans Affairs

DVGS60056 Special Assistant to the Senior Advisor

DVGS60080 Special Assistant to the Secretary of Veterans Affairs

DVGS60104 Special Assistant to the Secretary of Veterans Affairs

Broadcasting Board of Governors

IBGS00013 Chief of Staff to the Director Office of Cuba Broadcasting

Securities and Exchange Commission

SEOT60002 Confidential Assistant to a Commissioner

SEOT60004 Director of Legislative Affairs to the Chairman

SEOT60008 Secretary (Office Automation) to the Chief Accountant

SEOT60016 Secretary to the Director Division of Enforcement

SEOT60029 Secretary to the Director Division of Market Regulation

SEOT60052 Chief of Staff to the Chairman

SEOT60054 Secretary to the Director, Division of Market Regulation

SEOT60056 Legislative Affairs Specialist to the Director of Communications

SEOT60103 Legislative and Intergovernmental Affairs Specialist to the Director of Legislative Affairs

SEOT90001 Senior Advisor to the Chairman to the Chairman

SEOT90006 Confidential Assistant to a Commissioner

SEOT90007 Confidential Assistant to the Chairman

Department of Energy

DEGS00395 Special Assistant to the Chief of Staff

DEGS00439 Senior Policy Advisor to the Assistant Secretary for Fossil Energy

DEGS00443 Senior Policy Advisor to the Principal Deputy Assistant Secretary for Fossil Energy

DEGS00476 Policy Advisor to the Director, Office of Legacy Management

DEGS00485 Director, Office of Scheduling and Advance to the Chief of Staff

DEGS00503 Speechwriter to the Director, Public Affairs

DEGS00510 Lead Advance Representative to the Director, Office of Scheduling and Advance

DEGS00531 Senior Advisor to the Chief Operating Officer for Energy Efficiency and Renewable Energy

DEGS00535 Web Content Manager to the Senior Policy Advisor

DEGS00540 Special Assistant to the Director, Office of Electricity Delivery and Energy Reliability

DEGS00544 Senior Communications Advisor to the Assistant Secretary of Energy (Environmental Management)

DEGS00548 Staff Assistant to the General Counsel

DEGS00549 Senior Advisor to the Chief Operating Officer for Energy Efficiency and Renewable Energy

DEGS00556 Congressional Affairs Officer to the Director, Congressional Affairs

DEGS00562 Senior Policy Advisor to the Associate Director for System Operations and External Relations

DEGS00563 Legislative Advisor to the Assistant Secretary for Congressional and Intergovernmental Affairs

DEGS00564 Special Assistant to the Principal Deputy Assistant Secretary

DEGS00565 Special Assistant, Deputy Director of Scheduling and Advance to the Director, Office of Scheduling and Advance

DEGS00570 Senior Policy Advisor to the Assistant Secretary of Energy (Environmental Management)

DEGS00573 Senior Counsel to the General Counsel

DEGS00574 Deputy Assistant Secretary for Energy Policy to the Assistant Secretary for Congressional and Intergovernmental Affairs

DEGS00575 Director of Intergovernmental and Tribal Affairs to the Deputy Assistant Secretary for Intergovernmental and External Affairs

DEGS00579 Senior Policy Advisor to the Deputy Administrator for Defense Nuclear Nonproliferation

DEGS00585 Special Assistant to the Associate Director

DEGS00592 Small Business Specialist to the Associate Director

DEGS00593 Congressional Affairs Specialist to the Director, Congressional Affairs

DEGS00594 Senior Advisor for Public Affairs to the Director, Public Affairs (National Nuclear Security Administration)

DEGS00597 Special Assistant to the Assistant Secretary for Congressional and Intergovernmental Affairs

DEGS00599 Assistant Press Secretary to the Director, Public Affairs

DEGS00601 Policy Advisor to the Deputy Assistant Secretary

DEGS00607 Special Assistant to the Assistant Secretary for Congressional and Intergovernmental Affairs

DEGS00608 Special Assistant to the Chief Financial Officer

DEGS00611 Policy Advisor to the Deputy Assistant Secretary

DEGS00613 Senior Advisor to the Director, Office of Scheduling and Advance

DEGS00615 Special Assistant to the Deputy Director, Permitting, Siting and Analysis Division

DEGS00616 Special Assistant to the Assistant Secretary for Policy and International Affairs

DEGS00617 Special Assistant to the Director, Office of Scheduling and Advance

DEGS00618 Energy Operations Coordinator to the Assistant Secretary (Electricity Delivery and Energy Reliability)

DEGS00619 Director of International Activities to the Principal Deputy Assistant Secretary

DEGS00622 Special Advisor to the Chief of Staff

DEGS00623 Special Assistant to the Director, Public Affairs

DEGS00626 Special Advisor to the White House Liaison

DEGS00627 Special Assistant for Communications to the Assistant Secretary (Electricity Delivery and Energy Reliability)

DEGS00628 Assistant Press Secretary to the Director, Public Affairs

DEGS00630 Senior Advisor for Communications to the Director, Office of Technology Advancement and Outreach

DEGS00631 Special Assistant to the Assistant Secretary for Congressional and Intergovernmental Affairs

DEGS00632 Special Assistant to the Chief of Staff to the Chief of Staff

DEGS00636 Special Assistant to the Director, Public Affairs

DEGS00637 Assistant Press Secretary to the Director, Public Affairs

DEGS00638 Public Affairs Specialist to the Director of Congressional Intergovernmental and Public Affairs

DEGS00639 Case Analyst to the Director, Investment Security

DEGS00640 Trip Coordinator to the Director, Office of Scheduling and Advance

DEGS00641 Special Assistant to the Assistant Secretary (Electricity Delivery and Energy Reliability)

DEGS00642 Special Assistant to the Assistant Secretary (Electricity Delivery and Energy Reliability)

DEGS00645 Deputy Press Secretary to the Director, Public Affairs

DEGS00648 Special Assistant and Scheduler to the Secretary to the Director, Office of Scheduling and Advance

DEGS00649 Special Assistant to the Director, Office of Scheduling and Advance

DEGS00651 Special Assistant to the White House Liaison to the White House Liaison

DEGS00652 Deputy Chief of Staff to the Chief of Staff

DEGS00653 Policy Advisor to the Assistant Secretary for Fossil Energy

DEGS00654 Policy Advisor to the Assistant Secretary for Policy and International Affairs

DEGS00656 Senior Policy Advisor to the Deputy Secretary to the Deputy Secretary of Energy

DEGS00657 Senior Advisor to the Secretary, Department of Energy

DEGS00658 Policy Advisor to the Assistant Secretary for Policy and International Affairs

DEGS00659 Special Assistant to the Deputy Assistant Secretary

DEGS00660 Special Assistant to the Assistant Secretary of Energy (Nuclear Energy)

DEGS00661 Special Assistant to the Senior Advisor

DEGS00662 Deputy Assistant Secretary for Environmental Management and National Security to the Assistant Secretary for Congressional and Intergovernmental Affairs

DEGS00663 Senior Advisor to the Assistant Secretary for Fossil Energy

DEGS00664 Deputy Director to the Director, Office of Scheduling and Advance

DEGS00667 Energy Operations Coordinator to the Assistant Secretary (Electricity Delivery and Energy Reliability)

DEGS60233 Special Assistant to the Assistant Secretary for Policy and International Affairs

DEGS60276 Senior Policy Advisor to the Director, Office of Science

Federal Energy Regulatory Commission

DRGS17039 Confidential Assistant to the Member—Federal Energy Regulatory Commission

DRGS17040 Congressional, Intergovernmental and Public Affairs Specialist to the Director, Office of External Affairs

DRGS60003 Confidential Assistant to the Member—Federal Energy Regulatory Commission

DRGS60007 Confidential Assistant to the Member—Federal Energy Regulatory Commission

Small Business Administration

SBGS00190 Deputy Chief of Staff to the Chief of Staff

SBGS00540 Director of SBA's Center for Faith-Based and Community Initiatives to the Chief of Staff and Chief Operating Officer

SBGS00576 Deputy Associate Administrator for Office of Communications to the Assistant Administrator for Communications and Public Liaison

SBGS00592 Regional Administrator, Region Iii, Philadelphia, Pa to the Associate Administrator for Field Operations

SBGS00594 Press Secretary to the Assistant Administrator for Communications and Public Liaison

SBGS00612 Deputy Assistant Administrator for Faith-Based Community Initiatives to the Director of SBA's Center for Faith-Based and Community Initiatives

SBGS00617 Special Assistant to the Associate Administrator for Government Contracting and Business Development to the Associate Administrator for Government Contracting and Business Development

SBGS00618 Special Assistant to the National Ombudsman to the National Ombudsman and Assistant Administrator for Regulatory Enforcement Fairness

SBGS00619 Senior Policy Analyst to the Assistant Administrator for Policy and Strategic Planning

SBGS00632 Speechwriter to the Assistant Administrator for Communications and Public Liaison

SBGS00633 Congressional Liaison to the Assistant Administrator for Congressional and Legislative Affairs

SBGS00634 Regional Administrator (Region I) to the Associate Administrator for Field Operations

SBGS00639 Congressional Liaison to the Assistant Administrator for Congressional and Legislative Affairs

SBGS00640 Regional Administrator (Region II) to the Administrator

SBGS00641 Director, Office of Strategic Alliance to the Assistant Administrator for Communications and Public Liaison

SBGS00642 Assistant Administrator for Intergovernmental Affairs to the Chief of Staff

SBGS00643 Deputy Associate Administrator for Field Operations to the Associate Administrator for Field Operations

SBGS00648 White House Liaison to the Administrator

SBGS00649 Senior Advisor to the Associate Administrator for Capital Access to the Associate Deputy Administrator for Capital Access

SBGS00650 Senior Advisor to the Deputy Administrator to the Deputy Administrator

SBGS00653 Deputy General Counsel to the General Counsel

SBGS00655 Director of Scheduling to the Chief of Staff

SBGS00656 Congressional Liaison to the Assistant Administrator for Congressional and Legislative Affairs

SBGS00657 Counselor to the Deputy Administrator to the Deputy Administrator

SBGS00659 Special Assistant to the Associate Administrator for Field Operations to the Associate Administrator for the Office of Field Operations

SBGS00660 Research Analyst to the Deputy Assistant Administrator for the Office of Communications and Public Liaison

SBGS00661 Policy Analyst to the Assistant Administrator for Policy and Strategic Planning

SBGS00662 Deputy Assistant Administrator for Congressional and Legislative Affairs to the Assistant Administrator for Congressional and Legislative Affairs

SBGS00663 Assistant Administrator for Policy and Strategic Planning to the Chief of Staff

SBGS00664 Senior Advisor to the Administrator to the Chief of Staff

SBGS00665 Congressional Liaison to the Assistant Administrator for Congressional and Legislative Affairs

SBGS02646 Senior Advisor to the Associate Administrator for Entrepreneurial Development to the Associate Administrator for Entrepreneurial Development

SBGS60003 National Director for Native American Affairs to the Associate Administrator for Entrepreneurial Development

SBGS60170 Regional Administrator, Region VIII, Denver, Colorado to the Associate Administrator for the Office of Field Operations

SBGS60171 Regional Administrator, Region VII, Kansas City, Missouri to the District Director

SBGS60173 Regional Administrator, Region VI, Dallas, Texas to the District Director

SBGS60174 Regional Administrator to the Associate Administrator for Field Operations

SBGS60175 Regional Administrator to the District Director

SBGS60188 Regional Administrator, Region IX, San Francisco to the Administrator

SBGS60189 Regional Administrator, Region 10, Seattle, Washington to the Associate Administrator for the Office of Field Operations

Federal Deposit Insurance Corporation

FDOT00010 Chief of Staff to the Chairman of the Board of Directors (Director)

FDOT00012 Director for Public Affairs to the Chairman of the Board of Directors (Director)

Federal Trade Commission

FTGS60001 Director, Office of Public Affairs to the Chairman

FTGS60006 Congressional Liaison Specialist to the Chairman

FTGS60027 Confidential Assistant to a Commissioner

General Services Administration

GSGS00063 Senior Communications Advisor to the Deputy Associate Administrator for Communications

GSGS00079 Special Assistant to the Regional Administrator, Region 2, New York

GSGS00084 Special Assistant to the Regional Administrator, Region VI Kansas City

GSGS00087 Senior Advisor to the Regional Administrator, (Region IX-San Francisco)

GSGS00099 Senior Advisor to the Regional Administrator, Region 3, Philadelphia, Pennsylvania

GSGS00130 Senior Advisor to the Regional Administrator-Region 7 Fort Worth, Texas

GSGS00132 Special Assistant to the Regional Administrator to the Regional Administrator, Region 10, Auburn, Washington

GSGS00150 Senior Advisor to the Regional Administrator, National Capital Region

GSGS00159 Deputy Director for Communications to the Deputy Associate Administrator for Communications

GSGS00161 Public Affairs Specialist to the Deputy Associate Administrator for Communications

GSGS00163 Special Assistant to the Associate Administrator for Performance Improvement

GSGS00166 Deputy Associate Administrator for Small Business Utilization to the Associate Administrator for Small Business Utilization

GSGS00167 Confidential Assistant to the Chief of Staff

GSGS00172 Senior Advisor to the Commissioner, Public Buildings Service

GSGS00173 Senior Advisor to the Chief Acquisition Officer

GSGS00174 Principal Deputy Associate Administrator for Congressional and Intergovernmental Affairs to the Associate Administrator for Congressional and Intergovernmental Affairs

GSGS00176 Senior Advisor to the Associate Administrator for Congressional and Intergovernmental Affairs

GSGS00177 Deputy Chief of Staff to the Chief of Staff

GSGS00179 Small Business Specialist to the Associate Administrator for Small Business Utilization

GSGS00184 Deputy Associate Administrator for Congressional and Intergovernmental Affairs to the Associate Administrator for Congressional and Intergovernmental Affairs

GSGS00185 Deputy Associate Administrator for Congressional and Intergovernmental Affairs to the Associate Administrator for Congressional and Intergovernmental Affairs

GSGS00187 Deputy Associate Administrator for Congressional and Intergovernmental Affairs to the Principal Deputy Associate Administrator for Congressional and Intergovernmental Affairs

GSGS00188 Senior Advisor to the Regional Administrator (Region Viii-Denver)

GSGS60069 Events Management Specialist to the Deputy Associate Administrator for Communications

GSGS60095 White House Liaison to the Chief of Staff

GSGS60100 Deputy Associate Administrator for Performance Improvement to the Associate Administrator for Performance Improvement

GSGS60113 Special Assistant to the Regional Administrator Region 1 Boston

GSGS60119 Senior Advisor to the Deputy Regional Administrator

GSGS60120 Public Affairs Specialist to the Associate Administrator for Citizen Services and Communications

GSGS60126 Deputy Associate Administrator for Communications to the Associate Administrator for Citizen Services and Communications

GSGS60127 Associate Administrator for Small Business Utilization to the Administrator

United States International Trade Commission

TCGS00007 Staff Assistant (Legal) to a Commissioner

TCGS00010 Staff Assistant (Legal) to a Commissioner

TCGS00012 Staff Assistant (Legal) to a Commissioner

TCGS00025 Confidential Assistant to a Commissioner

TCGS00031 Executive Assistant to a Commissioner

TCGS00033 Staff Assistant to a Commissioner

TCGS00037 Staff Assistant (Legal) to the Chairman

TCGS60005 Staff Assistant (Legal) to a Commissioner

TCGS60006 Staff Assistant (Legal) to a Commissioner

TCGS60007 Staff Assistant (Economics) to a Commissioner

TCGS60015 Executive Assistant to the Vice Chairman

TCGS60018 Staff Assistant (Legal) to a Commissioner

TCGS60019 Staff Assistant (Legal) to a Commissioner

TCGS60022 Staff Assistant (Legal) to a Commissioner

TCGS60025 Staff Assistant (Legal) to a Commissioner

TCGS60030 Confidential Assistant to a Commissioner

TCGS60100 Senior Economist to a Commissioner

TCGS60101 Executive Assistant to the Vice Chairman

Farm Credit Administration

FLOT00028 Director, Congressional and Public Affairs to the Chairman, Farm Credit Administration Board

FLOT00054 Chief of Staff to the Chairman, Farm Credit Administration Board

FLOT60013 Executive Assistant to the Member, Farm Credit Administration Board

Occupational Safety and Health Review Commission

SHGS00003 Confidential Assistant to the Commission Member

SHGS60008 Counsel to a Commissioner to the Commission Member

Selective Service System

SSGS03389 Executive Officer/Chief of Staff to the Director Selective Service System

SSGS03464 Management Analyst to the Director Selective Service System

National Aeronautics and Space Administration

NNGS00045 Congressional Outreach Program Manager to the Assistant Administrator for Legislative Affairs and Intergovernmental Affairs

NNGS00155 Special Assistant to the Chief of Strategic Communications

NNGS00168 Editor to the Assistant Administrator for Public Affairs

NNGS00170 Program Specialist to the Deputy Administrator

NNGS00173 Legislative Intergovernmental Program Manager to the Assistant Administrator for Legislative Affairs and Intergovernmental Affairs

NNGS00183 Deputy Press Secretary/Public Affairs Specialist to the Public Affairs Specialist

NNGS00200 Executive Assistant to the Chief of Staff

NNGS15001 Special Assistant to the Chief Financial Officer

NNGS30116 White House Liaison to the Administrator

NNGS60020 Writer-Editor to the Assistant Administrator for Public Affairs

Federal Mine Safety and Health Review Commission

FRGS60024 Confidential Assistant to the Chairman

FRGS90504 Attorney Advisor (General) to a Member

Merit Systems Protection Board

MPGS00003 Confidential Assistant to the Member to a Board Member

MPGS60010 Confidential Assistant to the Chairman

MPGS60014 Counsel to the Chairman to the Chairman

Social Security Administration

SZGS00017 Associate Commissioner for External Affairs to the Deputy Commissioner for Communications

SZGS00019 Senior Advisor to the Deputy Commissioner for Legislation and Congressional Affairs to the Deputy Commissioner for Legislation and Congressional Affairs

Commission on Civil Rights

CCGS00017 Special Assistant to the Commissioner to a Commissioner

CCGS60013 Special Assistant to the Vice Chairman

CCGS60020 Special Assistant to the Commissioner to the Chairman

CCGS60029 Special Assistant to the Commissioner to a Commissioner

CCGS60031 General Counsel to the Staff Director

National Credit Union Administration

CUOT00025 Staff Assistant to a Board Member

CUOT00026 Staff Assistant to the Vice Chair

CUOT01008 Senior Policy Advisor to a Board Member

CUOT01009 Senior Policy Advisor to a Board Member

CUOT01317 Senior Policy Advisor to the Chairman to the Chairman

Consumer Product Safety Commission

PSGS00066 Supervisory Public Affairs Specialist to the Executive Director

PSGS60007 Director, Office of Congressional Relations to the Chairman, Consumer Product Safety Commission

PSGS60010 Executive Assistant to a Commissioner

PSGS60014 General Counsel to the Chairman, Consumer Product Safety Commission

PSGS60049 Special Assistant (Legal) to a Commissioner

PSGS60061 Executive Assistant to a Commissioner

PSGS60062 Special Assistant (Legal) to a Commissioner

PSGS60063 Special Assistant (Legal) to a Commissioner

Federal Maritime Commission

MCGS60003 Counsel to the Commissioner to a Member

MCGS60042 Counsel to a Member

Millennium Challenge Corporation

CMOT00001 Executive Assistant to the Chief Executive Officer

Trade and Development Agency

TDGS00004 Public Affairs Specialist to the Director

TDGS60001 Executive Assistant to the Director

TDGS60002 Congressional Liaison to the Director

Appalachian Regional Commission

APGS00005 Confidential Policy Advisor to the Federal Co-Chairman

Commodity Futures Trading Commission

CTOT00056 Special Assistant to the Commissioner to a Commissioner

CTOT00058 Special Assistant to the Commissioner to a Commissioner

CTOT00082 Chief of Staff to the Chairperson

CTOT00089 Administrative Assistant to the Commissioner to a Commissioner

CTOT00091 Chief Economist to the Chairperson

CTOT00094 Attorney Advisor (General) to the Chairperson

CTOT00097 Administrative Assistant to the Commissioner to a Commissioner

CTOT00788 Attorney-Advisor (General) to a Commissioner

CTOT09768 Director, Office of External Affairs to the Chairperson

CTOT60002 Administrative Assistant to the Chairperson

National Endowment for the Arts

NAGS60049 Congressional Liaison to the Director, Office of Government Affairs

NASL00001 Executive Director, Presidents Committee on the Arts and Humanities to the Chairman National Endowment for the Arts

National Endowment for the Humanities

NHGS00078 Associate Director of Communications and Chief Speechwriter to the Director of Communications

NHGS00081 Special Assistant to the Chairman to the Deputy Chairman

NHGS60075 Director of Communications to the Deputy Chairman

NHGS60077 Senior Advisor to the Chairman to the Chairman

Department of Housing and Urban Development

DUGS00041 Advance Coordinator to the Assistant Secretary for Administration/Chief Human Capital Officer

DUGS00044 Special Assistant to the Deputy Secretary, Housing and Urban Development

DUGS00900 Staff Assistant to the Assistant Secretary for Public Affairs

DUGS60138 Special Assistant to the Assistant Secretary for Community Planning and Development

DUGS60174 Congressional Relations Officer to the Deputy Assistant Secretary for Congressional Relations

DUGS60176 Staff Assistant to the Deputy Assistant Secretary for Congressional Relations

DUGS60179 Advance Coordinator to the Director of Executive Scheduling

DUGS60195 Staff Assistant to the Deputy Assistant Secretary for Economic Development

DUGS60224 Regional Director, Seattle, Washington to the Deputy Secretary, Housing and Urban Development

DUGS60232 Staff Assistant to the Assistant Deputy Secretary for Field Policy and Management

DUGS60238 Special Assistant to the Regional Director to the Regional Director

DUGS60249 Congressional Relations Assistant to the Assistant Secretary for Congressional and Intergovernmental Relations

DUGS60255 Special Assistant to the Assistant Secretary for Policy Development and Research

DUGS60263 Advisor to the Secretary to the Secretary, Housing and Urban Development

DUGS60270 Staff Assistant to the Assistant to the Secretary and White House Liaison

DUGS60276 Staff Assistant to the Assistant Secretary for Housing, Federal Housing Commissioner

DUGS60281 Special Projects Officer to the Assistant Secretary for Housing, Federal Housing Commissioner

DUGS60286 Staff Assistant to the Assistant Secretary for Housing, Federal Housing Commissioner

DUGS60288 Congressional Relations Officer to the Assistant Secretary for Congressional and Intergovernmental Relations

DUGS60319 Regional Director to the Assistant Deputy Secretary for Field Policy and Management

DUGS60326 Staff Assistant to the White House Liaison

DUGS60330 Deputy Assistant Secretary for Economic Development to the Assistant Secretary for Community Planning and Development

DUGS60336 Special Assistant to the Secretary to the Deputy Secretary, Housing and Urban Development

DUGS60338 Special Policy Advisor to the Assistant Secretary for Housing, Federal Housing Commissioner

DUGS60352 Regional Director to the Assistant Deputy Secretary for Field Policy and Management

DUGS60354 Special Assistant to the Assistant Secretary for Public and Indian Housing

DUGS60366 Deputy Assistant Secretary for Regulatory Affairs and Manufactured Housing to the Deputy Assistant Secretary for Regulatory Affairs and Manufactured Housing

DUGS60373 Media Outreach Specialist to the Assistant Secretary for Public Affairs

DUGS60391 Special Assistant to the Regional Director

DUGS60394 Staff Assistant to the Assistant Secretary for Community Planning and Development

DUGS60411 Special Assistant to the General Counsel

DUGS60417 Special Assistant to the Assistant Deputy Secretary for Field Policy and Management

DUGS60423 Staff Assistant to the Assistant Secretary for Administration/Chief Human Capital Officer

DUGS60427 Staff Assistant to the Assistant Secretary for Administration/Chief Human Capital Officer

DUGS60431 Regional Director, Kansas City, Kansas to the Deputy Assistant Secretary for Congressional and Intergovernmental Relations

DUGS60447 Staff Assistant to the Assistant Secretary for Community Planning and Development

DUGS60449 Associate Deputy Assistant Secretary for Congressional Relations to the General Deputy Assistant Secretary for Congressional and Intergovernmental Relations

DUGS60458 Legislative Specialist to the Deputy Assistant Secretary for Intergovernmental Relations

DUGS60460 Assistant to the Secretary and White House Liaison to the Chief of Staff

DUGS60464 Special Projects Coordinator to the Regional Director

DUGS60468 Staff Assistant to the Assistant Secretary for Community Planning and Development

DUGS60470 Staff Assistant to the General Counsel

DUGS60472 Deputy Assistant Secretary for Legislative Relations to the Assistant Secretary for Congressional and Intergovernmental Relations

DUGS60489 Director, Office of Receivership Oversight to the Assistant Secretary for Public and Indian Housing

DUGS60490 Special Policy Advisor to the Chief of Staff

DUGS60502 Special Policy Advisor to the Assistant Secretary for Public and Indian Housing

DUGS60517 Regional Director to the Assistant Deputy Secretary for Field Policy and Management

DUGS60522 Deputy Assistant Secretary for Grant Programs to the Assistant Secretary for Community Planning and Development

DUGS60534 Deputy Director to the Director, Center for Faith Based and Community Initiatives

DUGS60588 Staff Assistant to the Assistant Secretary for Administration/Chief Human Capital Officer

DUGS60595 Congressional Relations Assistant to the Assistant Secretary for Congressional and Intergovernmental Relations

DUGS60596 Staff Assistant to the General Deputy Assistant Secretary for Public Affairs

DUGS60601 Legislative Specialist to the Assistant Secretary for Congressional and Intergovernmental Relations

National Mediation Board

NMGS60054 Confidential Assistant to a Board Member

NMGS60056 Confidential Assistant to a Board Member

Federal Labor Relations Authority

FAGS00001 Management Assistant to the Chairman

FAGS60022 Executive Assistant to the Chairman

Pension Benefit Guaranty Corporation

BGSL00096 Chief of Staff to the Interim Director

Department of Transportation

DTGS60017 Assistant to the Secretary for Policy to the Secretary

DTGS60055 Associate Director for Governmental Affairs to the Assistant Secretary for Governmental Affairs

DTGS60117 Special Assistant to the Secretary

DTGS60129 Counselor to the General Counsel to the General Counsel

DTGS60139 Special Assistant to the Deputy Secretary

DTGS60173 Director of Congressional Affairs to the Administrator

DTGS60192 Special Assistant to the Assistant to the Secretary and Director of Public Affairs

DTGS60197 Confidential Assistant to the Chief of Staff to the Chief of Staff

DTGS60199 Special Assistant to the Associate Administrator for Communications and Legislative Affairs

DTGS60202 Special Assistant to the Administrator to the Administrator

DTGS60229 Special Assistant to the Administrator

DTGS60237 Press Secretary to the Assistant to the Secretary and Director of Public Affairs

DTGS60239 Director, Office of Congressional and Public Affairs to the Administrator

DTGS60243 Speechwriter to the Associate Director for Speechwriting

DTGS60257 Deputy Director for Public Affairs to the Assistant to the Secretary and Director of Public Affairs

DTGS60279 Associate Director for Speechwriting to the Assistant to the Secretary and Director of Public Affairs

DTGS60287 Special Assistant for Scheduling and Advance to the Director for Scheduling and Advance

DTGS60292 Associate Director for Governmental Affairs to the Assistant Secretary for Governmental Affairs

DTGS60301 Associate Director for Governmental Affairs to the Deputy Assistant Secretary for Governmental Affairs

DTGS60311 Special Assistant to the Chief of Staff

DTGS60313 Director of Governmental Affairs to the Administrator

DTGS60317 Deputy Assistant Administrator for Government and Industry Affairs to the Assistant Administrator for Government and Industry Affairs

DTGS60324 Director for Scheduling and Advance to the Chief of Staff

DTGS60341 Associate Director for Governmental Affairs to the Deputy Assistant Secretary for Governmental Affairs

DTGS60342 Special Assistant for Scheduling and Advance to the Director for Scheduling and Advance

DTGS60351 Counselor to the Deputy Secretary to the Deputy Secretary

DTGS60357 Special Assistant to the White House Liaison and Scheduling and Advance to the Director for Scheduling and Advance

DTGS60365 Counselor to the Assistant Secretary for Transportation Policy to the Assistant Secretary for Transportation Policy

DTGS60369 Deputy Assistant Secretary for Governmental Affairs to the Assistant Secretary for Governmental Affairs

DTGS60371 Deputy Assistant Secretary for Governmental Affairs to the Assistant Secretary for Governmental Affairs

DTGS60372 Deputy Assistant Secretary for Governmental Affairs to the Assistant Secretary for Governmental Affairs

DTGS60373 Director of Governmental Affairs to the Administrator

DTGS60375 White House Liaison to the Chief of Staff

DTGS60379 Confidential Assistant to the Assistant to the Secretary and Director of Public Affairs

DTGS60380 Associate Administrator for Governmental, International, and Public Affairs to the Administrator

DTGS60383 Assistant to the Secretary for Policy to the Chief of Staff

DTGS60451 Director of Communications to the Administrator

DTGS60460 Director of Public Affairs to the Administrator

DTOT00240 Deputy Assistant Administrator for Communications to the Assistant Administrator for Communications

National Transportation Safety Board

TBGS60025 Special Assistant to a Member

TBGS61518 Special Assistant to a Member

TBGS71538 Special Assistant to a Member

TBGS81116 Confidential Assistant to the Vice Chairman

Federal Housing Finance Board

FBOT00004 Counsel to the Chairman to the Chairman

FBOT00005 Staff Assistant to the Chairman

FBOT00010 Special Assistant to the Board Director to the Board Director

FBOT60009 Special Assistant to the Board Director to the Board Director

Authority: 5 U.S.C. 3301 and 3302; E.O. 10577, 3 CFR 1954-1958 Comp., p.218. Office of Personnel Management.

John Berry,
Director.

[FR Doc. E9-16743 Filed 7-16-09; 8:45 am]

BILLING CODE 6325-39-P